POSTAL SERVICE

39 CFR Part 111

Domestic Competitive Products Pricing and Mailing Standards Changes

AGENCY: Postal Service™.

ACTION: Final rule.

SUMMARY: The Postal Service is amending Mailing Standards of the United States Postal Service, Domestic Mail Manual (DMM®), to reflect changes to prices and mailing standards for competitive products.

DATES: Effective July 9, 2023.

FOR FURTHER INFORMATION CONTACT: Steven Jarboe at (202) 268-7690, Margaret Pepe (202) 268-3078, or Garry Rodriguez at (202) 268-7281.

SUPPLEMENTARY INFORMATION: This final rule describes new prices and product features for competitive products, by class of mail, established by the Governors of the United States Postal Service®. New prices are available under Docket Number CP2023-151 on the Postal Regulatory Commission PRC website at http://www.prc.gov, and on the Postal Explorer® website at http://pe.usps.com.

The Postal Service will revise Mailing Standards of the United States Postal Service, Domestic Mail Manual (DMM), to reflect changes to certain prices and mailing standards for the following competitive products:

• Priority Mail Express®.

• Priority Mail®.

• USPS Ground Advantage™ (formerly First-Class Package Service®).

• Parcel Select®.

• Extra Services.

• Return Services.

• Mailer Services.

• Recipient Services.

• Other.

Competitive product prices and changes are identified by product as follows:

Priority Mail Express

There are no Priority Mail Express retail or commercial price, or structural changes scheduled for July 9, 2023.

Priority Mail

There are no Priority Mail retail or commercial price, or structural changes scheduled for July 9, 2023.

USPS Ground Advantage (Formerly First-Class Package Service)

First-Class Package Service Rebranded as USPS Ground Advantage

USPS Ground Advantage is a rebranding of First-Class Package Service that will consolidate USPS Retail Ground® and Parcel Select Ground into the respective retail and commercial price categories. The USPS Ground Advantage—Retail and USPS Ground Advantage—Commercial features are as follows:

USPS Ground Advantage—Retail

• Weight: 1 ounce to 70 pounds (ounce pricing will be in 4 oz., 8 oz., 12 oz., and 15.999 oz., increments for USPS Ground Advantage—Retail).

• Dimensions: Pieces up to 130 inches in length and girth (oversized price).

• USPS Ground Advantage—Limited Overland Route (LOR) prices.

• Dimensional weight (DIM) will apply to USPS Ground Advantage—Retail and USPS Ground Advantage—LOR.

• Nonstandard Fees will apply to USPS Ground Advantage—Retail and USPS Ground Advantage—LOR.

• Sealed against inspection.

• $100 of insurance included with USPS Ground Advantage—Retail and USPS Ground Advantage—LOR (see “USPS Ground Advantage Insurance” below).

• USPS Click-N-Ship added as a payment method.

• Extra Services: Certified Mail® and Certificate of Mailing will no longer be offered.

USPS Ground Advantage—Commercial

• Weight: 1 ounce to 70 pounds (ounce pricing will be in 4 oz., 8 oz., 12 oz., and 15.999 oz., increments).

• Dimensions: Pieces up to 130 inches in length and girth (oversized price).

• USPS Ground Advantage—Cubic prices.

• Dimensional weight (DIM) will apply to USPS Ground Advantage—Commercial.

• Nonstandard Fees will apply to USPS Ground Advantage—Commercial.

• Not Sealed against inspection.

• $100 of insurance included with USPS Ground Advantage—Commercial and USPS Ground Advantage—Cubic (see “USPS Ground Advantage Insurance” below).

• USPS Click-N-Ship added as a payment method.

• Extra Services: Certified Mail and Certificate of Mailing will no longer be offered.

Prices

Overall, USPS Ground Advantage prices will decrease 1.4 percent.

USPS Ground Advantage—Retail prices will decrease 3.2 percent.

USPS Ground Advantage—Commercial prices will decrease 0.7 percent.

USPS Ground Advantage Insurance

The Postal Service is including $100 of insurance with USPS Ground Advantage—Retail and USPS Ground Advantage—Commercial product offerings. See Federal Register notice, New Mailing Standards for Domestic Mailing Services Products, (87 FR 21601-21603) for additional information.

Parcel Select

Prices

The prices for Parcel Select Destination Entry will increase an average of 2.1 percent. The prices for Parcel Select Lightweight® will decrease an average of 0.1 percent. The prices for USPS Connect® Local will remain the same.

Parcel Select Destination Entry Pricing

The Postal Service is revising the Parcel Select Destination Entry pricing structure to eliminate the nonmachinable price table and have one price table that will include price increments for weights from 1 pound through 70 pounds and oversized.

Parcel Select Destination Entry and Parcel Select Lightweight Pricing Component Restructuring

The Postal Service is revising the pricing components of Parcel Select Destination Entry and Parcel Select Lightweight for consistency within the products. Both products will now have four pricing components, Destination Delivery Unit (DDU), Destination Hub (DHub), Destination Sectional Center Facility (DSCF), and Destination Network Distribution Center (DNDC). This revision of pricing components will now make Parcel Select Lightweight consistent with Parcel Select Destination Entry. Additionally, Parcel Select Lightweight will be priced at the 4 ounce, 8 ounce, 12 ounce, and 15.999 ounce increments.

Parcel Select Ground Discontinued

As a result of the rebranding and enhancement of the USPS Ground Advantage—Commercial product, the Postal Service has decided to discontinue the Parcel Select Ground price category offering.

USPS Retail Ground

USPS Retail Ground Discontinued

As a result of the rebranding and enhancement of the USPS Ground Advantage—Retail product, the Postal Service has decided to discontinue the USPS Retail Ground product offering.

Return Services

USPS Returns

Priority Mail Express Return Service

The Postal Service is adding Priority Mail Express Return Service to the suite of USPS Returns services. Priority Mail Express standards will apply to Priority Mail Express Return service pieces.

USPS Ground Advantage Return Service (Formerly First-Class Package Return Service)

The Postal Service is rebranding First-Class Package Return Service as USPS Ground Advantage Return Service.

USPS Ground Advantage Return Service Insurance

The Postal Service is including $100.00 of insurance with USPS Ground Advantage Return service pieces. See Federal Register notice, New Mailing Standards for Domestic Mailing Services Products, (87 FR 21601-21603) for additional information.

Ground Return Service Discontinued

As a result of the rebranding and enhancement to the USPS Ground Advantage—Commercial product and the Postal Service discontinuing the Parcel Select Ground price category offering, the Postal Service is discontinuing the Ground Return Service (Parcel Select Ground) USPS Returns product offering.

Mailer Services

Pickup on Demand Service

The Pickup on Demand® service fee will remain the same.

USPS Tracking Plus Service

The USPS Premium Tracking Service™ prices will remain the same.

USPS Label Delivery Service

The USPS Label Delivery Service™ prices will remain the same.

Recipient Services

Post Office Box Service

The competitive Post Office Box™ service prices will remain the same.

Premium Forwarding Service

Premium Forwarding Service® (PFS®) prices will remain the same.

USPS Package Intercept

The USPS Package Intercept® fee will remain the same.

Other

Address Enhancement Service

Address Enhancement Service competitive product prices will remain the same.

Small Parcel Forwarding Fee

The small parcel forwarding fee will remain the same.

Physical Standards for Parcels

The Postal Service is revising the maximum dimensions and weight for machinable parcels. The maximum dimensions for a machinable parcel are 22 inches x 18 inches x 15 inches. The maximum weight for a machinable parcel is 25 pounds.

Resources

The Postal Service provides additional resources to assist customers with this price change for competitive products. These tools include price lists, downloadable price files, and Federal Register Notices, which may be found on the Postal Explorer® website at http://pe.usps.com.

The Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise Mailing Standards of the United States Postal Service, Domestic Mail Manual (DMM) as follows:

Mailing Standards of the United States Postal Service, Domestic Mail Manual (DMM)

* * * * *

100 Retail Mail Letters, Cards, Flats, and Parcels

101 Physical Standards

* * * * *

3.0 Physical Standards for Parcels

* * * * *

3.2 Maximum Weight and Size

[Revise the third sentence and add a new fourth sentence of 3.2 to read as follows:]

* * * No mailpiece may weigh more than 70 pounds. Except for USPS Ground Advantage—Retail, which may not measure more than 130 inches in length and girth combined no mailpiece may measure more than 108 inches in length and girth combined. ***

* * * * *

[Revise the heading of 6.0 to read as follows:]

6.0 Additional Physical Standards for First-Class Mail and USPS Ground Advantage—Retail

6.1 Maximum Weight

[Revise the text of 6.1 by creating a 6.1.1 and 6.1.2 to read as follows:]

6.1.1 First-Class Mail

First-Class Mail (letters and flats) cannot exceed 13 ounces.

6.1.2 USPS Ground Advantage—Retail

USPS Ground Advantage—Retail cannot exceed 70 pounds.

* * * * *

6.4 Parcels

[Revise the introductory text of 6.4 to read as follows:]

USPS Ground Advantage—Retail parcels are eligible for USPS Tracking and Signature Confirmation service. A USPS Ground Advantage—Retail parcel is:

* * * * *

[Revise the text of item d to read as follows:]

d. A mailpiece that does not exceed 130 inches in combined length and girth.

[Delete 7.0, Additional Physical Standards for USPS Retail Ground, in its entirety and renumber 8.0 as 7.0.]

* * * * *

102 Elements on the Face of a Mailpiece

* * * * *

3.0 Placement and Content of Mail Markings

* * * * *

[Revise the heading of 3.3 to read as follows:]

3.3 First-Class Mail and USPS Ground Advantage—Retail Markings

[Revise the first sentence of 3.3 to read as follows:]

Each single-piece price First-Class Mail and USPS Ground Advantage—Retail piece must have a delivery address but is not required to bear a price marking. * * *

[Revise the heading of 3.4 to read as follows:]

3.4 Media Mail and Library Mail Markings

[Revise the first sentence in the introductory text of 3.4 to read as follows:]

Mailers must print the basic required Package Services subclass marking—“Media Mail,” or “Library Mail” on each piece claimed at the respective price. * * *

[Revise the text of item a to read as follows:]

a. The service icon that will identify all Package Services subclasses will be a 1-inch solid black square. If the service icon is used, it must appear in the upper left corner of the shipping label.

[Revise the second sentence of item b to read as follows:]

b. * * * If the service banner is used, the appropriate Package Services subclass marking (e.g., “MEDIA MAIL,” “LIBRARY MAIL”) must be preceded by the text “USPS” and must be printed in minimum 20-point bold sans serif typeface, uppercase letters, centered within the banner, and bordered above and below by minimum 1-point separator lines. * * *

[Revise the heading of Exhibit 3.4 to read as follows:]

Exhibit 3.4 Package Services Indicator Examples

[Rename the class of mail in the first example in Exhibit 3.4 “USPS Library Mail”.]

* * * * *

[Revise the heading of 130 to read as follows:]

130 Retail Mail First-Class Mail and USPS Ground Advantage—Retail

133 Prices and Eligibility

1.0 Prices and Fees

[Revise the heading and introductory text of 1.1 to read as follows:]

1.1 First-Class Mail Single-Piece and USPS Ground Advantage—Retail Price Application

The single-piece prices (see Notice 123—Price List) are applied as follows:

* * * * *

[Revise the text of item d to read as follows:]

The USPS Ground Advantage—Retail parcel price applies to parcel-size pieces under 101.3.0 and to flat-size pieces that do not meet the standards in 101.2.0.

[Revise the heading and introductory text of 1.2 to read as follows:]

1.2 Price Computation for First-Class Mail and USPS Ground Advantage—Retail

First-Class Mail and USPS Ground Advantage—Retail prices are charged as follows:

* * * * *

[Revise the text of item b to read as follows:]

b. USPS Ground Advantage—Retail—Based on weight and zone and is charged as follows:

1. Ounce pricing charged at the 4-ounce, 8-ounce, 12-ounce, and 15.999-ounce increments. Any fraction of an ounce over the 4-ounce, 8-ounce, 12-ounce, and 15.999-ounce increments is rounded to the next price increment. For example, if an item weighs 4.1 ounces, the next weight (price) increment is 8 ounces, if an item weighs 12.1 ounces, the next weight (price) increment is 15.999.

2. Per pound from more than 1 pound through 70 pounds. Any fraction of a pound is considered a whole pound. For example, if an item weighs 1.25 pounds, the weight (price) increment is 2 pounds.

[Renumber 1.3 through 1.6 as 1.5 through 1.8 and add new 1.3 and 1.4 to read as follows:]

1.3 USPS Ground Advantage—Retail-Limited Overland Routes Prices

USPS Ground Advantage—Retail—LOR retail prices are only available when mailing eligible items within Alaska for pieces delivered to or from the eligible intra-Alaska ZIP Codes not connected by overland routes in Exhibit 1.3. USPS Ground Advantage—Retail—LOR retail prices are not available through online or commercial postage payment.

Exhibit 1.3 USPS Ground Advantage—Retail—LOR Eligible Intra-Alaska ZIP Codes

USPS Ground Advantage—Retail—LOR eligible intra-Alaska ZIP Codes are as follows:

99545, 99546, 99547, 99548, 99549, 99550, 99551, 99552, 99553, 99554, 99555, 99557, 99558, 99559, 99561, 99563, 99564, 99565, 99569, 99571, 99574, 99575, 99576, 99578, 99579, 99580, 99581, 99583, 99585, 99589, 99590, 99591, 99602, 99604, 99606, 99607, 99608, 99609, 99612, 99613, 99614, 99615, 99619, 99620, 99621, 99622, 99624, 99625, 99626, 99627, 99628, 99630, 99632, 99633, 99634, 99636, 99637, 99638, 99640, 99641, 99643, 99644, 99647, 99648, 99649, 99650, 99651, 99653, 99655, 99656, 99657, 99658, 99659, 99660, 99661, 99662, 99663, 99665, 99666, 99667, 99668, 99670, 99671, 99675, 99677, 99678, 99679, 99680, 99681, 99682, 99684, 99685, 99689, 99690, 99691, 99692, 99695, 99697, 99720, 99721, 99722, 99723, 99724, 99726, 99727, 99730, 99732, 99733, 99734, 99736, 99738, 99739, 99740, 99741, 99742, 99745, 99746, 99747, 99748, 99749, 99750, 99751, 99752, 99753, 99754, 99756, 99757, 99758, 99759, 99761, 99762, 99763, 99765, 99766, 99767, 99768, 99769, 99770, 99771, 99772, 99773, 99774, 99777, 99778, 99781, 99782, 99783, 99784, 99785, 99786, 99788, 99789, 99790, 99791, 99801, 99802, 99803, 99811, 99812, 99820, 99821, 99824, 99825, 99826, 99827, 99829, 99830, 99832, 99833, 99835, 99836, 99840, 99841, 99850, 99901, 99903, 99918, 99919, 99921, 99922, 99923, 99925, 99926, 99927, 99928, 99929, 99950.

1.4 Dimensional Weight Price for Low-Density Parcels

Postage for USPS Ground Advantage parcels addressed for delivery to zones 1-9 and USPS Ground Advantage—LOR parcels, exceeding 1 cubic foot (1,728 cubic inches) is based on the actual weight or the dimensional weight (as calculated in 1.4.1 or 1.4.2), whichever is greater.

1.4.1 Determining Dimensional Weight for Rectangular Parcels

Follow these steps to determine the dimensional weight for a rectangular parcel:

a. Measure the length, width, and height in inches. Round off (see 604.7.0) each measurement to the nearest whole inch.

b. Multiply the length by the width and then that total by the height.

c. If the result exceeds 1,728 cubic inches, divide the result by 166 and round up (see 604.7.0) to the next whole number to determine the dimensional weight in pounds.

d. If the dimensional weight exceeds 70 pounds, the customer pays the 70-pound price.

1.4.2 Determining Dimensional Weight for Nonrectangular Parcels

Follow these steps to determine the dimensional weight for a nonrectangular parcel:

a. Measure the length, width, and height in inches at their extreme dimensions. Round off (see 604.7.0) each measurement to the nearest whole inch.

b. Multiply the length by the width and then that total by the height.

c. Multiply the result by an adjustment factor of 0.785.

d. If the final result exceeds 1,728 cubic inches, divide the result by 166 and round up (see 604.7.0) to the next whole number to determine the dimensional weight in pounds.

e. If the dimensional weight exceeds 70 pounds, the customer pays the 70-pound price.

* * * * *

1.8 Nonstandard Fees

[Revise the introductory text of renumbered 1.8 to read as follows:]

A USPS Ground Advantage—Retail and USPS Ground Advantage—LOR piece is subject to a nonstandard fee (see Notice 123—Price List) as follows:

* * * * *

[Revise the heading of 2.0 to read as follows:]

2.0 Basic Eligibility Standards for First-Class Mail and USPS Ground Advantage—Retail

2.1 Description of Service

[Revise the text of 2.1 to read as follows:]

First-Class Mail and USPS Ground Advantage—Retail receive expeditious handling and transportation. The USPS does not guarantee the delivery of First-Class Mail and USPS Ground Advantage—Retail within a specified time. Certain USPS Ground Advantage—Retail pieces may receive deferred handling.

2.2 Defining Characteristics

2.2.1 Inspection of Contents

[Revise the text of 2.2.1 to read as follows:]

First-Class Mail and USPS Ground Advantage—Retail are sealed against postal inspection.

2.2.2 Forwarding and Return Service

[Revise the text of 2.2.2 to read as follows:]

The price of First-Class Mail and USPS Ground Advantage—Retail include forwarding service to a new address for up to 12 months and return service if the mailpiece is undeliverable.

2.2.3 Extra Services

[Revise the text of 2.2.3 to read as follows:]

First-Class Mail and USPS Ground Advantage—Retail are eligible to receive the following extra services (See information regarding additional extra services in 503):

a. First Class Mail—Registered Mail services and Certified Mail services.

b. USPS Ground Advantage—Retail—Registered Mail services.

3.0 Content Standards

3.1 General Eligibility

[Revise the text of 3.1 to read as follows:]

With the exception of restricted material as described in 601.8.0, any mailable item may be mailed as First-Class Mail and USPS Ground Advantage—Retail.

3.2 Bills and Statements of Account

[Revise the introductory text of 3.2 to read as follows:]

Bills and statements of account must be mailed as First-Class Mail, USPS Ground Advantage—Retail, Priority Mail, or Priority Mail Express and are defined as follows:

* * * * *

3.3 Personal Information

[Revise the text of 3.3 to read as follows:]

Mail containing personal information must be mailed as First-Class Mail, USPS Ground Advantage—Retail, Priority Mail, or Priority Mail Express. Personal information is any information specific to the addressee.

3.4 Handwritten and Typewritten Material

[Revise the text of 3.4 to read as follows:]

Mail containing handwritten or typewritten material must be mailed as First-Class Mail, USPS Ground Advantage—Retail, Priority Mail, or Priority Mail Express.

* * * * *

3.6 Prohibited Air Transportation

[Revise the text of 3.6 to read as follows:]

All First-Class Mail and USPS Ground Advantage—Retail are subject to limitations for air transportation in 601.8.0.

134 Postage Payment Methods

[Revise the heading of 1.0 to read as follows:]

1.0 Postage Payment Methods for First-Class Mail and USPS Ground Advantage—Retail

1.1 Payment Method

[Delete the heading 1.1.1 General and move the text under 1.1 to read as follows:]

Postage for single-piece First-Class Mail and USPS Ground Advantage—Retail must be paid as follows:

a. First-Class Mail—with affixed postage stamps (604.1.0), postage evidencing system postage (604.4.0), or precanceled stamps (604.3.0).

b. USPS Ground Advantage—Retail—In addition to the payment methods in 1.1a USPS Ground Advantage may be paid with USPS Click-N-Ship.

[Delete 1.1.2 in its entirety.]

* * * * *

1.3 More Than One Mailer

[Revise the first sentence of 1.3 to read as follows:]

When two or more individuals or organizations, or a party acting as their agent, mail in one package the bills, statements of account, or other letters of the individuals or organizations, to an addressee in common, First-Class Mail or USPS Ground Advantage—Retail postage may be paid on the weight of the entire package of aggregated mail. * * *

1.4 More Than One Letter

[Revise the introductory text of 1.4 to read as follows:]

An individual or organization may mail in one package more than one of the mailer's own letters and pay First-Class Mail or USPS Ground Advantage—Retail postage on the weight of the entire package of letters if:

* * * * *

1.5 Agent

[Revise the text of 1.5 to read as follows:]

Any agent of a licensing authority may forward completed applications in one envelope to an office of the licensing authority and pay First-Class Mail or USPS Ground Advantage—Retail postage on the weight of the piece.

135 Mail Preparation

[Revise the heading and text of 1.0 to read as follows:]

1.0 Preparation for First-Class Mail and USPS Ground Advantage—Retail

The following standards apply to retail single-piece First-Class Mail and USPS Ground Advantage—Retail:

a. Each piece of First-Class Mail or USPS Ground Advantage—Retail must have a delivery address but is not required to bear a price marking.

b. There are no sorting requirements for retail single-piece First-Class Mail or USPS Ground Advantage—Retail.

136 Deposit

[Revise the heading and introductory text of 1.0 to read as follows:]

1.0 Deposit for First-Class Mail and USPS Ground Advantage—Retail

Retail First-Class Mail (letters, cards, flats) and USPS Ground Advantage—Retail must be deposited as follows:

* * * * *

[Delete Chapter 150, USPS Retail Ground, in its entirety.]

* * * * *

200 Commercial Mail Letters, Flats, and Parcels

* * * * *

201 Physical Standards

* * * * *

7.0 Physical Standards for Parcels

* * * * *

7.3 Maximum Weight and Size

[Revise the text of 7.3 to read as follows:]

No mailpiece may weigh more than 70 pounds. Lower weight limits apply to parcels mailed at Priority Mail cubic, USPS Ground Advantage—Commercial cubic, USPS Marketing Mail, and Bound Printed Matter prices. Except for USPS Ground Advantage—Commercial and Parcel Select, pieces may not measure more than 108 inches in length and girth combined. USPS Marketing Mail Marketing parcels (see 8.4) may not be larger than 12 inches long, 9 inches high, and 2 inches thick. USPS Ground Advantage—Commercial and Parcel Select parcels may not measure more than 130 inches in length and girth combined. For parcels, length is the distance of the longest dimension and girth is the distance around the thickest part. Lower size or weight standards apply to mail addressed to some APOs and FPOs subject to 703.2.0 and 703.4.0 and for Department of State mail, subject to 703.3.0.

* * * * *

7.5 Machinable Parcels

7.5.1 Criteria

A machinable parcel is any piece that is not a letter or a flat and that is (see Exhibit 7.5.1b):

* * * * *

[Revise the text of item b to read as follows:]

b. Not more than 22 inches long, or 18 inches high, or 15 inches thick. Parcels cannot weigh more than 25 pounds.

* * * * *

Exhibit 7.5.1b Machinable Parcel Dimensions

[Revise the maximum dimensions shown in the graphic in Exhibit 7.5.1b to be 22″ × 18″ × 15″.]

* * * * *

8.0 Additional Physical Standards by Class of Mail

* * * * *

[Revise the heading of 8.3 to read as follows:]

8.3 USPS Ground Advantage—Commercial Parcels

8.3.1 Weight

[Revise the text of 8.3.1 to read as follows:]

USPS Ground Advantage—Commercial parcels must not weigh more than 70 pounds.

8.3.2 Size

[Revise the second sentence of the introductory text under 8.3.2 to read as follows:]

* * * A USPS Ground Advantage—Commercial parcel is:

* * * * *

[Revise the text of item d to read as follows:]

d. A mailpiece that does not exceed 130 inches in combined length and girth.

* * * * *

202 Elements on the Face of a Mailpiece

* * * * *

3.0 Placement and Content of Mail Markings

* * * * *

[Revise the heading and text of 3.6 to read as follows:]

3.6 USPS Ground Advantage—Commercial Markings

3.6.1 Basic Markings

The basic required marking ”USPS Ground Advantage” must be printed as part of, directly below, or to the left of the postage on all parcels. Optionally, the basic required price marking may be printed on a shipping address label as a service indicator composed of a service icon and service banner.

3.6.2 USPS Ground Advantage—Commercial Cubic Markings

USPS Ground Advantage—Commercial pieces claiming the cubic price must be marked as provided under 3.6.1 and bear the applicable marking that reflects the correct price tier printed on the piece or produced as part of the postage indicia. The cubic tiers are determined by the cubic measurement of each mailpiece up to the defined threshold, (for example, measurements from .01 up to .10 for “Cubic .10” and from .101 up to .20 for “Cubic .20”). Place the marking directly above, directly below, or to the left of the postage. Approved markings are as follows:

a. “Cubic .10”

b. “Cubic .20”

c. “Cubic .30”

d. “Cubic .40”

e. “Cubic .50”

f. “Cubic .60”

g. “Cubic .70”

h. “Cubic .80”

i. “Cubic .90”

j. “Cubic 1.00”

3.6.3 Price Marking—Permit Imprint

USPS Ground Advantage—Commercial permit imprint pieces claiming the cubic price must be marked as provided under 3.6.1 and bear the “cubic” marking printed on the piece or produced as part of the permit imprint indicia. Place the marking directly above, directly below, or to the left of the postage. The approved marking is “Cubic” (or “CUBIC,” or “cubic”).

3.6.4 Soft Pack and Padded Envelope Markings

Regardless of the postage payment method used, soft pack and padded envelopes must be marked as provided under 3.6.1 in addition to the tier price markings in 3.6.2 and the dimensions (length and width) of the original packaging. Place the markings directly above, directly below, or to the left of the postage.

3.7 Parcel Select, Bound Printed Matter, Media Mail, and Library Mail Markings

* * * * *

3.7.2 Parcel Select Markings

[Revise the introductory text of 3.7.2 by deleting the third sentence referencing “USPS Retail Ground.”]

* * * * *

[Delete item b and renumber items c and d as b and c.]

* * * * *

[Delete 3.8, Parcel Select Ground Cubic Markings, in its entirety and renumber 3.9 and 3.10 as 3.8 and 3.9.]

* * * * *

203 Basic Postage Statement, Documentation, and Preparation Standards

* * * * *

5.0 Letter and Flat Trays

* * * * *

5.12 Line 2 (Content Line)

Line 2 (content line) must meet these standards:

* * * * *

b. Codes: The codes shown below must be used as appropriate on Line 2 of tray, sack, and pallet labels.

[Delete the “First-Class Package Service—Commercial entry from the list of codes.]

* * * * *

204 Barcode Standards

1.0 Standards for Intelligent Mail Barcodes

* * * * *

1.3 Reflectance

1.3.1 Background Reflectance

A background reflectance of at least 50% in the red portion and 45% in the green portion of the optical spectrum must be produced in the following locations when measured with a USPS or USPS-licensed envelope reflectance meter:

* * * * *

[Revise the text of item b to read as follows:]

b. The area surrounding the barcode (within ⅛ inch of the leftmost and rightmost bars and 1/25 inch above and below the barcode) of a card-size, letter-size, or flat-size piece barcoded in the address block and of a flat-size piece barcoded elsewhere.

* * * * *

1.3.4 Dark Fibers and Background Patterns

Dark fibers or background patterns that produce a print contrast ratio of more than 15% when measured in the red and green portions of the optical spectrum are prohibited in these locations:

* * * * *

[Revise the text of item b to read as follows:]

b. The area of the address block or the area of the mailpiece where the barcode appears on a flat-size piece in an automation mailing.

* * * * *

207 Periodicals

* * * * *

3.0 Physical Characteristics and Content Eligibility

* * * * *

3.4 Impermissible Mailpiece Components

* * * * *

3.4.3 Products

[Revise the last sentence of 3.4.3 to read as follows:]

* * * Package Services, or Parcel Select mail pieces may not be combined with a Periodicals publication.

* * * * *

4.0 Basic Eligibility Standards

* * * * *

4.7 Eligible Formats

4.7.1 Complete Copies

[Revise the last sentence of 4.7.1 to read as follows:]

* * * Incomplete copies (for example, those lacking pages or parts of pages) are subject to the applicable First-Class Mail, USPS Ground Advantage—Retail, USPS Ground Advantage—Commercial, USPS Marketing Mail, or Package Services prices.

* * * * *

4.10 Back Issues and Reprints

[Revise the last sentence of 4.10 to read as follows:]

* * * Other mailings of back issues or reprint copies, including permanently bound back issues or reprint copies, are subject to the applicable Priority Mail Express, Priority Mail, First-Class Mail, USPS Ground Advantage—Retail, USPS Ground Advantage—Commercial, USPS Marketing Mail, or Package Services prices.

* * * * *

5.0 Applying for Periodicals Authorization

* * * * *

5.2 Mailing While Application Pending

* * * * *

5.2.2 Pending Prices

* * * Postage may be paid until final action is taken on the application as follows:

* * * * *

[Revise the text of item b to read as follows:]

b. For a refund after the application is approved, at USPS Marketing Mail, Bound Printed Matter, and Parcel Select prices or at single-piece Priority Mail, First-Class Mail, and USPS Ground Advantage—Retail prices under the exception in 5.3.6e.

* * * * *

5.2.3 Pending Postage

* * * * *

Exhibit 5.2.3 Pending Postage

[Rename the “First-Class Package Service—R” line item as “USPS Ground Advantage—R” to read as follows:]

Pending class of mail | PCT.
USPS Ground Advantage—R | %

* * * * *

5.3 Decision on Application

* * * * *

5.3.6 No Refund

No refund is made for:

* * * * *

[Revise the text of item e to read as follows:]

e. Postage paid at Priority Mail Express, Priority Mail, First-Class Mail, USPS Ground Advantage—Retail, or USPS Ground Advantage—Commercial prices. Exception: For a mailing presorted and prepared as Periodicals mail that is less than 200 pieces or 50 pounds, a refund may be authorized when postage is paid at single-piece Priority Mail, First-Class Mail, or USPS Ground Advantage—Retail prices as provided on the applicable postage statement.

* * * * *

6.0 Qualification Categories

* * * * *

6.7 News Agent Registry

* * * * *

6.7.4 Parts Returned

[Revise the text of 6.7.4 to read as follows:]

Parts of publications returned to publishers to show that copies have not been sold are subject to the applicable USPS Marketing Mail, USPS Ground Advantage—Retail, or Package Services prices.

* * * * *

10.0 Preferred Periodicals

* * * * *

10.6 Mailing While Application Pending

10.6.1 Mailing Before Approval

[Revise the text of 10.6.1 to read as follows:]

A publisher or news agent may not mail at a Periodicals Preferred price until the PCSC manager approves the application. Until approval is given, postage must be paid at the Outside-County prices (for authorized Periodicals publications), or at the First-Class Mail, USPS Ground Advantage—Retail, USPS Ground Advantage—Commercial, USPS Marketing Mail, or Package Services prices (if the publication is in a pending status for Periodicals mailing privileges).

10.6.2 Record of Deposits

[Revise the last sentence of 10.6.2 to read as follows:]

* * * No record is kept if First-Class Mail, USPS Ground Advantage—Retail, or USPS Ground Advantage—Commercial, postage is paid or if postage is not paid by advance deposit account.

10.7 Decision on Application

* * * * *

10.7.5 No Refund

No refund is made for:

* * * * *

[Revise the text of item f to read as follows:]

f. Postage paid at Priority Mail Express, First-Class Mail or USPS Ground Advantage—Retail prices.

* * * * *

11.0 Basic Eligibility

* * * * *

11.5 Copies Mailed by Public

[Revise the Text of 11.5 to read as follows:]

The single-piece Priority Mail Express, Priority Mail, First-Class Mail, USPS Ground Advantage—Retail, or Package Services price is charged on copies of publications mailed by the general public and on copies returned to publishers or news agents.

* * * * *

210 Commercial Mail Priority Mail Express

213 Prices and Eligibility

1.0 Prices and Fees

* * * * *

1.8 Nonstandard Fees

[Revise the introductory text of 1.8 to read as follows:]

Except for Priority Mail Express Return Service, a Priority Mail Express piece is subject to a nonstandard fee (see Notice 123—Price List) as follows:

* * * * *

230 Commercial Mail First-Class Mail

233 Prices and Eligibility

* * * * *

2.0 Content Standards for First-Class Mail

* * * * *

[Delete 2.6 in its entirety and renumber 2.7 and 2.8 as 2.6 and 2.7.]

* * * * *

240 Commercial Mail USPS Marketing Mail

243 Prices and Eligibility

1.0 Prices and Fees

* * * * *

1.4 Fees

* * * * *

1.4.2 Weighted Fee

[Revise the text of 1.4.2 to read as follows:]

For return of pieces bearing the ancillary service markings “Address Service Requested” and “Forwarding Service Requested.” Weighted fee equals single-piece First-Class Mail, or USPS Ground Advantage—Retail, price multiplied by 2.472.

* * * * *

3.0 Basic Eligibility Standards for USPS Marketing Mail

* * * * *

[Revise the heading and text of 3.7 to read as follows:]

3.7 Residual Mail Subject to First-Class Mail or USPS Ground Advantage—Retail Prices

Pieces prepared as USPS Marketing Mail (i.e., that bear USPS Marketing Mail price markings, ACS codes, etc.) that do not qualify for Enhanced Carrier Route, automation, or Presorted USPS Marketing Mail prices are subject to the single-piece First-Class Mail or USPS Ground Advantage—Retail prices as applicable for the weight of the mailpiece. Metered pieces weighing over 13 ounces but less than 16 ounces that do not qualify for USPS Marketing Mail prices and any pieces that do not qualify for USPS Marketing Mail prices for which First-Class Mail or USPS Ground Advantage—Retail service is desired must be re-enveloped or otherwise prepared so that they do not bear USPS Marketing Mail markings, endorsements, and ACS codes and must bear the proper First-Class Mail or USPS Ground Advantage—Retail price markings and ACS codes. Mailers who have pieces (other than metered pieces weighing over 13 ounces but less than 16 ounces) that do not qualify for USPS Marketing Mail prices but that are prepared as USPS Marketing Mail and who do not desire to receive First-Class Mail or USPS Ground Advantage—Retail service for those pieces may enter their mailpieces “as is” (i.e., bearing the USPS Marketing Mail markings and endorsements), provided the requirements in 244.1.0, are met.

* * * * *

244 Postage Payment and Documentation

* * * * *

5.0 Residual Pieces

[Revise the heading and introductory text of 5.1 to read as follows:]

5.1 Residual USPS Marketing Mail Subject to First-Class Mail or USPS Ground Advantage Prices

Mailers who have pieces weighing 13 ounces or less that do not qualify for USPS Marketing Mail prices but that are prepared as USPS Marketing Mail must pay single-piece First-Class Mail or USPS Ground Advantage—Retail postage for such pieces. If mailers do not desire to receive First-Class Mail or USPS Ground Advantage—Retail service for such pieces they may enter the mailpieces “as is” (i.e., bearing the USPS Marketing Mail markings and endorsements), under the following conditions:

* * * * *

[Revise the first sentence of item b to read as follows:]

b. Mail bearing metered or precanceled stamp postage must pay the difference between the postage affixed at the USPS Marketing Mail prices and the single-piece First-Class Mail or USPS Ground Advantage—Retail prices by means of an advance deposit account or by affixing a meter stamp for the appropriate amount to Form 3600-FCM. * * *

[Revise the first sentence of item c to read as follows:]

c. Mail bearing permit imprints must pay the appropriate single-piece First-Class Mail or USPS Ground Advantage—Retail prices by completing Form 3600-FCM. * * *

[Revise the heading and introductory text of 5.2 to read as follows:]

5.2 Residual USPS Marketing Mail Subject to USPS Ground Advantage—Retail Prices

Mailers who have permit imprint pieces weighing over 13 ounces but less than 16 ounces that do not qualify for USPS Marketing Mail prices but that are prepared as USPS Marketing Mail must pay the USPS Ground Advantage—Retail postage for such pieces. Mailpieces paid with meters or permit imprints must re-envelope or otherwise prepare the pieces so that when mailed they bear only the appropriate USPS Ground Advantage markings, ancillary service endorsements, and ACS codes and do not bear USPS Marketing Mail markings, endorsements, or ACS codes. Mailpieces paid with permit imprints for which mailers do not desire to receive USPS Ground Advantage service may enter the mailpieces “as is” (i.e., bearing the USPS Marketing Mail markings and endorsements), under the following conditions:

* * * * *

[Revise the first sentence of item b to read as follows:]

b. The appropriate USPS Ground Advantage—Retail prices must be paid by completing the appropriate part of Form 3600-FCM on the line titled “Pieces From USPS Marketing Mail mailing” in the postage calculation section. ***

* * * * *

245 Mail Preparation

* * * * *

6.0 Preparing Enhanced Carrier Route Letters

* * * * *

6.3 Residual Pieces

[Revise the text of 6.3 to read as follows:]

Pieces not sorted as a carrier route mailing must be prepared as a separate mailing at USPS Marketing Mail automation or Presorted prices or at the applicable single-piece First-Class Mail or USPS Ground Advantage—Retail prices.

* * * * *

8.0 Preparing Nonautomation Flats

* * * * *

8.10 Residual Pieces

[Revise the first sentence in the introductory text of 8.10 to read as follows:]

Mailers entering USPS Marketing Mail residual pieces that do not qualify for USPS Marketing Mail prices, and paying the applicable single-piece First-Class Mail or USPS Ground Advantage—Retail prices (but prepared “as is” under 244.5.0), must separately bundle and sack residual pieces from the automation and presort pieces. * * *

* * * * *

9.0 Preparing Enhanced Carrier Route Flats

* * * * *

9.2 Residual Pieces

[Revise the text of 9.2 to read as follows:]

Pieces not sorted as a carrier route mailing must be prepared as a separate mailing at USPS Marketing Mail automation or Presorted prices or at the applicable single-piece First-Class Mail or USPS Ground Advantage—Retail prices.

* * * * *

250 Commercial Mail Parcel Select

253 Prices and Eligibility

1.0 Pricing

* * * * *

1.1.2 Price Categories

The price categories for Parcel Select are as follows:

[Revise the text of item a to read as follows:]

a. Destination entry including destination entry network distribution center (DNDC), destination entry sectional center facility (DSCF), destination hub (DHub), and destination entry delivery unit (DDU).

[Delete item b and renumber items c and d as items b and c.]

[Revise renumbered item b to read as follows:]

b. Lightweight includes DNDC, DSCF, DHub, and DDU.

* * * * *

1.1.3 Price Application

The following price applications apply:

[Revise the first sentence of item a to read as follows:]

a. Prices for Destination Entry DNDC are based on the weight increment and the entry of each addressed piece. ***

* * * * *

[Delete item d and renumber item e as item d. Revise the text of renumbered item d to read as follows:]

d. Prices for Parcel Select Lightweight are based on the weight increment and the entry of each addressed piece. The price is charged at the 4-ounce, 8-ounce, 12 ounce, and 15.999-ounce increments. Any fraction of an ounce over the 4-ounce, 8-ounce, 12-ounce and 15.999-ounce increments is rounded to the next price increment. For example, if an item weighs 4.1 ounces, the next weight (price) increment is 8 ounces, if an item weighs 12.1 ounces, the next weight (price) increment is 15.999 ounces.

* * * * *

[Delete 1.2, Parcel Select Ground Cubic, in its entirety and renumber items 1.3 through 1.9 as items 1.2 through 1.8.]

* * * * *

1.2 Dimensional Weight Price for Low-Density Parcels to Zones 1-9

[Revise the text of renumbered 1.2 to read as follows:]

Postage for Destination Entry parcels addressed for delivery to Zones 1-9 and exceeding 1 cubic foot (1,728 cubic inches) is based on the actual weight or the dimensional weight (as calculated in 1.2.1 or 1.2.2), whichever is greater.

* * * * *

1.7 Nonstandard Fees

[Revise the introductory text of renumbered 1.7 to read as follows:]

A Parcel Select Destination Entry, Parcel Select Lightweight, or USPS Connect Local mailpiece is subject to a nonstandard fee (see Notice 123-Price List) as follows:

* * * * *

4.0 Price Eligibility for Parcel Select and Parcel Select Lightweight

4.1 Destination Entry Price Eligibility

4.1.1 Definition

* * * For this standard, the following destination facility definitions apply:

* * * * *

[Renumber item c as item d and add new item c to read as follows:]

c. A destination hub (DHub) includes all facilities in L014. See 4.1.4 for more information.

[Revise the heading and introductory text of 4.1.4 to read as follows:]

4.1.4 DSCF, DHub, and DDU Prices

For DSCF, DHub, and DDU prices, pieces must meet the applicable standards in 3.0 and the following criteria:

* * * * *

[Renumber item b as item c and add new item b to read as follows:]

b. For DHub prices, be part of a Parcel Select destination entry mailing of parcels deposited at an DHub in L014. Mailers must not prepare mail on pallets or pallet boxes if the delivery facility is unable to handle pallets. See 255.4.2 and 255.6.0 for preparation requirements.

* * * * *

[Delete 4.2, Parcel Select Ground Price Eligibility, in its entirety and renumber 4.3 through 4.6 as 4.2 through 4.5.]

4.2 Parcel Select Lightweight

* * * * *

4.2.2 Price Application

[Revise the text of renumbered 4.2.2 to read as follows:]

Prices for Parcel Select Lightweight apply to parcels that meet the eligibility standards in 2.0 and 4.2 and the preparation standards in 255.6.0, 705.6.0, or 705.8.0. When pieces are combined under 705.6.0, pieces are eligible for the applicable prices when the combined total meets the eligibility standards. For example, when there are 10 pounds of combined machinable parcels and irregular parcels in a 5-digit sack, all pieces are eligible for the applicable prices.

4.2.3 Prices for Machinable Parcels

The following prices apply to Parcel Select Lightweight machinable parcels:

[Revise the introductory text of item a to read as follows:]

a. DDU Price; the DDU price applies to qualifying machinable parcels that are dropshipped to a DDU and presented:

[Revise the text of item a1 to read as follows:]

1. In a 5-digit/scheme (L606) sack containing at least 10 pounds of pieces.

[Renumber item a2 as item a3 and add new item a2 to read as follows:]

2. On a 5-digit/scheme (L606) pallet, according to standards in 705.8.10.

* * * * *

[Renumber items b through d as items c through e and add new item b to read as follows:]

b. Hub Price; the Hub price applies to machinable parcels that are dropshipped and presented to a Hub:

1. In a 5-digit/scheme (L606) sack containing at least 10 pounds of pieces.

2. On a 5-digit/scheme (L606) pallet, according to standards in 705.8.10.

[Revise the introductory text of renumbered item c to read as follows:]

c. DSCF Price; the DSCF price applies to machinable parcels that are dropshipped and presented to a DSCF:

[Renumber items c1 and c2 as items c3 and c4 and add new items c1 and c2 to read as follows:]

1. In a 5-digit/scheme (L606) sack containing at least 10 pounds of pieces.

2. On a 5-digit/scheme (L606) pallet, according to standards in 705.8.10.

* * * * *

[Revise the introductory text of renumbered item d to read as follows:]

d. DNDC Price; the DNDC price applies to qualifying machinable parcels that are dropshipped and presented to an NDC as follows:

[Renumber items 1 through 3 as items 5 through 7 and add new items 1 through 4 to read as follows:]

1. In a 5-digit/scheme (L606) sack containing at least 10 pounds of pieces.

2. On a 5-digit/scheme (L606) pallet, according to standards in 705.8.10.

3. In an SCF sack containing at least 10 pounds of parcels.

4. On an SCF pallet, according to 705.8.10.

[Revise the text of renumbered item d5 to read as follows:]

5. In an ASF or NDC sack containing at least 10 pounds of parcels; or on an ASF or NDC pallet, according to standards in 705.8.10; or in an NDC/ASF container prepared under 705.21.0.

[Delete renumbered item 6 and renumber item 7 as item 6.]

* * * * *

[Delete renumbered item e in its entirety.]

4.2.4 Prices for Irregular Parcels

The following prices apply to Parcel Select Lightweight irregular parcels:

a. DDU Price; the DDU price applies to irregular parcels that are dropshipped to a DDU and presented:

* * * * *

[Renumber items b through d as items c through e and add new item b to read as follows:]

b. Hub Price; the Hub price applies to irregular parcels that are dropshipped and presented to a Hub:

1. In a 5-digit/scheme (L606) sack containing at least 10 pounds of pieces.

2. On a 5-digit/scheme (L606) pallet, according to standards in 705.8.10.

[Revise the introductory text of renumbered item c to read as follows:]

c. DSCF Price; the DSCF price applies to irregular parcels that are dropshipped and presented to a DSCF:

[Renumber items c1 through c3 as items c3 through c5 and add new items c1 and c2 to read as follows:]

1. In a 5-digit/scheme (L606) sack containing at least 10 pounds of pieces.

2. On a 5-digit/scheme (L606) pallet, according to standards in 705.8.10.

* * * * *

[Revise the introductory text of renumbered item d to read as follows:]

d. DNDC Price; the DNDC price applies to qualifying irregular parcels that are dropshipped and presented to an NDC as follows:

[Renumber items 1 and 2 as items 5 and 6 and add new items 1 through 4 to read as follows:]

1. In a 5-digit/scheme (L606) sack containing at least 10 pounds of pieces.

2. On a 5-digit/scheme (L606) pallet, according to standards in 705.8.10.

3. In an SCF sack containing at least 10 pounds of parcels.

4. On an SCF pallet, according to 705.8.10.

[Revise the text of renumbered item 5 to read as follows:]

5. In an ASF or NDC sack containing at least 10 pounds of parcels; or on an ASF or NDC pallet, according to standards in 705.8.10; or in an NDC/ASF container prepared under 705.21.0.

[Delete renumbered item 6 in its entirety and add new item 6 to read as follows:]

6. DNDC prices are not available for ZIP Code ranges 006-009, 967-969, and 995-999, as indicated in labeling list L601.

* * * * *

[Delete renumbered item e in its entirety.]

* * * * *

4.5 Hold For Pickup

[Revise the text of renumbered 4.5 to read as follows:]

Parcel Select Lightweight parcels are eligible for Hold For Pickup service under 507.3.0.

* * * * *

254 Postage Payment and Documentation

1.0 Basic Standards for Postage Payment

1.1 Postage Payment Options

[Revise the heading of 1.1.1 to read as follows:]

1.1.1 Parcel Select Destination Entry

[Revise the introductory text of 1.1.1 to read as follows:]

Parcel Select destination entry may be paid as follows:

[Revise item a to read as follows:]

a. Metered postage may be used on pieces as provided under 1.1.1c and 604.4.

[Delete items a1 and a2.]

* * * * *

255 Mail Preparation

1.0 General Information for Mail Preparation

* * * * *

[Delete 1.6 and 1.7 in their entireties and renumber 1.8 as 1.6.]

1.6 Parcel Select Markings

[Delete the last sentence of renumbered 1.6.]

* * * * *

4.0 Preparing Destination Entry Parcel Select

* * * * *

[Renumber 4.2 and 4.3 as 4.3 and 4.4 and add new 4.2 to read as follows:]

4.2 Preparing Destination Hub (DHub) Parcel Select

4.2.1 Definition

A destination Hub (DHub) includes all facilities in L014.

4.2.2 Basic Standards

Pieces must meet the applicable standards in 4.0 and the following criteria:

a. Must be part of a mailing of at least 50 Parcel Select pieces.

b. DHub pieces must be for the same Hub area under L014.

c. Sorted to optional 5-digit scheme destinations under L606, Column B, 5-digit destinations, either in sacks or directly on pallets or in pallet boxes. Mailers must enter the pieces at the designated Hub, under L014 that serves the 5-digit ZIP Code destinations of the pieces. The DHub price is not available for palletized mail for facilities that are unable to handle palletized mailings. Refer to the Drop Shipment Product available at the USPS FAST website: https://fast.usps.com to determine if the facility serving the 5-digit destination can handle pallets.

4.2.3 Sacking and Labeling

Sacking requirements for DHub entry:

a. Only 5-digit scheme and 5-digit sacks are permitted.

b. Each 5-digit scheme and 5-digit sack must contain a minimum of seven pieces. Machinable and nonmachinable pieces may be combined in the same sack to meet this requirement. One overflow sack per 5-digit ZIP Code is permitted (no piece minimum).

c. 5-digit scheme sack labeling: Line 1, use L606, Column B; for Line 2, “PSVC PARCELS 5D SCH.”

d. 5-digit sack labeling: Line 1, use city, state, and 5-digit ZIP Code on mail (see 203.5.11 for overseas military mail); for Line 2, “PSVC PARCELS 5D.”

* * * * *

5.0 Preparing Machinable Parcels

* * * * *

5.3 Sacking and Labeling

* * * * *

5.3.1 Sack Preparation

Sack size, preparation sequence, and Line 1 labeling:

* * * * *

[Delete item f in its entirety.]

5.3.2 Sack Line 2

Line 2:

* * * * *

[Delete item f in its entirety.]

6.0 Preparing Parcel Select Lightweight

6.2.1 Sacking

[Revise the first sentence of 6.3.1 to read as follows:]

Mailers may prepare 5-digit sacks only for parcels that will be dropshipped to a DNDC (or ASF when claiming DNDC prices), DHub, DSCF, or DDU. * * *

* * * * *

6.2.2 Sacking and Labeling

Preparation sequence, sack size, and labeling:

[Revise the introductory text of item a to read as follows:]

a. 5-digit/scheme (optional), see definition in 1.4.; allowed only for mail deposited at DNDC (or ASF when claiming DNDC prices), DHub, DSCF, or DDU. Sacks must contain a 10-pound minimum except at DDU entry which has no minimum; labeling:

* * * * *

[Delete items e and f in their entireties.]

6.3 Preparing Irregular Parcels

6.3.1 Sacking

[Revise the first sentence of 6.3.1 to read as follows:]

Mailers may prepare 5-digit sacks only for parcels that will be dropshipped to a DNDC (or ASF when claiming DNDC prices), DHub, DSCF, or DDU. See 6.3.3 for restrictions on SCF, ASF, and NDC sacks. * * *

* * * * *

6.3.3 Sacking and Labeling

Preparation sequence, sack size, and labeling:

[Revise the introductory text of item a to read as follows:]

a. 5-digit/scheme (optional), see definition in 1.4; allowed only for mail deposited at DNDC (or ASF when claiming DNDC prices), DHub, DSCF, or DDU. Sacks must contain a 10-pound minimum except at DDU entry which has no minimum; labeling:

* * * * *

[Delete items e and f in their entireties.]

* * * * *

[Delete 8.0, Preparing a Cubic Mailing, in its entirety.]

256 Enter and Deposit

* * * * *

2.0 Deposit

* * * * *

2.2 Containers

[Revise the introductory text and item a of 2.2 to read as follows:]

DNDC mailings (if not bedloaded), DDU mailings (if not bedloaded), and all DHub, and DSCF mailings must be prepared as follows:

a. Machinable parcels for which a DNDC, DSCF, DHub, or DDU price is claimed must be sacked under 255.4.0 or prepared on pallets under 705.8.0.

* * * * *

[Revise the text of 2.2 by adding a new item g to read as follows:]

g. For DHub, 5-digit scheme and 5-digit sacks may be bedloaded or be placed on DHub pallets that are labeled and otherwise prepared under 705.8.0.

* * * * *

2.5 Mail Separation and Presentation of Destination Entry Mailings

* * * Mailers presenting destination entry mailings to the Postal Service must meet the following requirements:

* * * * *

[Revise the text of item a to read as follows:]

a. Mark each DNDC, DSCF, DHub, or DDU Parcel Select piece as “Parcel Select,” according to 202.3.7.2. If eVS is used, include the marking “eVS” on each piece as described in 604.5.0.

[Delete item b and renumber items c through f as items b through e.]

* * * * *

2.11 Deposit Conditions

Deposit of mail also is subject to these conditions:

[Revise the text of item a to read as follows:]

a. Destination facilities may refuse mailings that are unscheduled or late (i.e., if vehicles arrive more than 2 hours after the scheduled appointment at ASFs, NDCs, SCFs, or DHubs, and more than 20 minutes late at delivery units). If a mailing is refused, a mailer is permitted to make a new appointment.

* * * * *

2.13 Vehicle Unloading

Unloading of destination entry mailings is subject to these conditions:

[Revise the first sentence of item a to read as follows:]

a. Properly prepared containerized loads (e.g., pallets) are unloaded by the USPS at NDCs, ASFs, SCFs, and Hubs. * * *

[Revise the first sentence of item b to read as follows:]

b. The driver must unload bedloaded shipments within 8 hours of arrival at NDCs, ASFs, SCFs, and Hubs. * * *

* * * * *

[Revise the heading of 280 to read as follows:]

280 Commercial Mail USPS Ground Advantage—Commercial

283 Prices and Eligibility

1.0 Prices and Fees

1.1 Price Application

[Revise the text of 1.1 to read as follows:]

Except under items 1.1c and 1.1d, postage is based on the price (see Notice 123—Price List) that applies to the weight and zone of each addressed piece as follows:

a. The price is charged at the 4-ounce, 8-ounce, 12-ounce, and 15.999-ounce increments. Any fraction of an ounce over the 4-ounce, 8-ounce, 12-ounce and 15.999-ounce increments is rounded to the next price increment. For example, if an item weighs 4.1 ounces, the next weight (price) increment is 8 ounces, if an item weighs 12.1 ounces, the next weight (price) increment is 15.999 pound.

b. Per pound from 1 pound through 70 pounds. Any fraction of a pound is considered a whole pound. For example, if an item weighs 1.25 pounds, the weight (postage) increment is 2 pounds.

c. The oversized price is based on the zone and applies to pieces that measure over 108 inches but not more than 130 inches in combined length and girth.

d. Cubic prices are based on the zone and cubic measurement (Tier) of the mailpiece with any fraction of a measurement rounded down to the nearest ¼ inch. For example, if a dimension of a cubic piece measures 12⅜ inches, it is rounded down to 12¼ inches.

1.2 Commercial Prices

Commercial prices are available when paid by one of the following methods:

* * * * *

[Revise the text of item d to read as follows:]

d. USPS Returns service used by permit holders for USPS Ground Advantage—Commercial packages when all requirements are met under 505.3.0).

[Delete 1.3, Surcharge, and renumber 1.4 as 1.6, and add new 1.3, 1.4, and 1.5 to read as follows:]

1.3 USPS Ground Advantage—Commercial Cubic

1.3.1 Eligibility

Cubic prices are available to eligible USPS Ground Advantage—Commercial customers including USPS Ground Advantage Return service under 505.3.0. Each cubic mailpiece, including soft packs and padded envelopes under 1.3.4, must measure 1 cubic foot or less, weigh 20 pounds or less, and the longest dimension may not exceed 18 inches. Cubic-priced mailpieces may not be rolls or tubes.

1.3.2 Tiers

Cubic prices consist of the following ten tiers:

a. Tier 0.10—mailpieces measuring up to .10 cubic foot

b. Tier 0.20—mailpieces measuring more than .10 up to .20 cubic foot

c. Tier 0.30—mailpieces measuring more than .20 up to .30 cubic foot

d. Tier 0.40—mailpieces measuring more than .30 up to .40 cubic foot

e. Tier 0.50—mailpieces measuring more than .40 up to .50 cubic foot

f. Tier 0.60—mailpieces measuring more than .50 up to .60 cubic foot

g. Tier 0.70—mailpieces measuring more than .60 up to .70 cubic foot

h. Tier 0.80—mailpieces measuring more than .70 up to .80 cubic foot

i. Tier 0.90—mailpieces measuring more than .80 up to .90 cubic foot

j. Tier 1.00—mailpieces measuring more than .90 up to 1.00 cubic foot

1.3.3 Determining Cubic Tier Measurements for Rectangular and Nonrectangular Parcels

Follow these steps to determine the cubic tier measurement for rectangular and nonrectangular parcels:

a. Measure the length, width, and height at each dimension's maximum point, in inches. Round down (see 604.7.0) each measurement to the nearest ¼ inch. For example, 6⅛″ × 5⅞″ × 6⅜″ is rounded down to 6″ × 5¾″ × 6¼″.

b. Multiply the length by the width by the height and divide by 1728. For example: 6″ × 5¾″ × 6¼″ = 215.6 divided by 1728 = 0.125 (This piece exceeds 0.10—Tier 1 threshold). It is calculated at Tier 2—0.101 to 0.20.

1.3.4 Determining Cubic Tier Measurement for Soft Pack and Padded Envelopes

Cubic tier measurements for soft pack (poly, plastic, cloth, or similar soft packaging) and padded envelopes are based on the outside dimensions of length plus width, in inches, of the original packaging material. Mailpieces that are pleated (e.g., expandable) must follow the measurement guidelines in 1.3.3 to be eligible for cubic pricing. Determine cubic tier measurements as follows:

a. Measure the length and width separately in inches.

b. Round down (see 604.7.0) each measurement to the nearest ¼ inch. For example, 10⅛ inches is rounded down to 10 inches.

c. Add the two measurements together. The maximum total of length plus width cannot exceed 36 inches. See Exhibit 1.3.4 for corresponding price tiers.

Exhibit 1.3.4 Cubic Pricing Tiers for Soft Pack & Padded Envelopes

Cubic price tiers | Length plus width
0.10 | Mailpieces measuring from 0″ up to 16″.
0.20 | Mailpieces measuring more than 16″ up to 21″.
0.30 | Mailpieces measuring more than 21″ up to 24″.
0.40 | Mailpieces measuring more than 24″ up to 26″.
0.50 | Mailpieces measuring more than 26″ up to 28″.
0.60 | Mailpieces measuring more than 28″ up to 30″.
0.70 | Mailpieces measuring more than 30″ up to 32″.
0.80 | Mailpieces measuring more than 32″ up to 34″.
0.90 | Mailpieces measuring more than 34″ up to 35″.
1.00 | Mailpieces measuring more than 35″ up to 36″.

1.4 Dimensional Weight Price for Low-Density Parcels to Zones 1-9

Postage for USPS Ground Advantage—Commercial parcels addressed for delivery to Zones 1-9 and exceeding 1 cubic foot (1,728 cubic inches) is based on the actual weight or the dimensional weight (as calculated in 1.4.1 or 1.4.2), whichever is greater.

1.4.1 Determining Dimensional Weight for Rectangular Parcels

Follow these steps to determine the dimensional weight for a rectangular parcel:

a. Measure the length, width, and height in inches. Round off (see 604.7.0) each measurement to the nearest whole inch.

b. Multiply the length by the width by the height.

c. If the result exceeds 1,728 cubic inches, divide the result by 166 and round up (see 604.7.0) to the next whole number to determine the dimensional weight in pounds.

d. If the dimensional weight exceeds 70 pounds, the customer pays the 70-pound price.

1.4.2 Determining Dimensional Weight for Nonrectangular Parcels

Follow these steps to determine the dimensional weight for a nonrectangular parcel:

a. Measure the length, width, and height in inches at their extreme dimensions. Round off (see 604.7.0) each measurement to the nearest whole inch.

b. Multiply the length by the width by the height.

c. Multiply the result by an adjustment factor of 0.785.

d. If the final result exceeds 1,728 cubic inches, divide the result by 166 and round up (see 604.7.0) to the next whole number to determine the dimensional weight in pounds.

e. If the dimensional weight exceeds 70 pounds, the customer pays the 70-pound price.

1.4.3 Dimensional Weight Dimension Standard

Shipping Services file manifests or other approved electronic documentation must include the accurate dimensions (length, width, height) of all pieces that exceed 1 cubic foot. Mailers of pieces exceeding 1 cubic foot and with Shipping Services file manifests, or other approved electronic documentation, that do not meet the requirement to include the piece's accurate dimensions will be assessed a dimension-noncompliance fee under 1.8.

1.5 Computing Postage

1.5.1 Determining Single-Piece Weight

To determine single-piece weight in any mailing of nonidentical-weight pieces, weigh each piece individually. To determine single-piece weight in a mailing of identical-weight pieces, weigh a sample group of at least 10 randomly selected pieces and divide the total sample weight by the number of pieces in the sample. Except for mailers using eVS, when determining single-piece weight for USPS Ground Advantage mailpieces, express all weights in decimal pounds rounded off to two decimal places. Mailers using eVS may round off to four decimals, and eVS will automatically round to the appropriate decimal place. If a customer is using a manifest mailing system, the manifest weight field must be properly completed by adhering to the rules relative to the specific manifest.

1.5.2 Computing Postage for Affixed Postage

For each piece, affix correct postage for the weight (including any surcharges) and, if applicable, the zone to which the piece is addressed, as shown in 1.2 through 1.4. To calculate the total postage for the mailing, add all of the affixed postage amounts for each piece.

1.5.3 Computing Postage for Permit Imprint

To compute the total postage for a mailing, for each weight increment, multiply the number of pieces by the applicable price per piece. Round each product off to four decimal places. Add the products and round up the total postage to the nearest whole cent.

1.6 eVS Unmanifested Fee

[Revise the text of renumbered 1.6 to read as follows:]

Eligible eVS USPS Ground Advantage—Commercial pieces omitted from the eVS manifest are subject to the eVS unmanifested fee (see Notice 123-Price List), unless the piece is subject to the IMpb noncompliance fee specified in 3.4.

[Add new 1.7 and 1.8 to read as follows:]

1.7 Nonstandard Fees

A USPS Ground Advantage—Commercial mailpiece is subject to a nonstandard fee (see Notice 123—Price List) as follows:

a. A piece measures more than 22 inches up to 30 inches long.

b. A piece measures more than 30 inches long.

c. A piece measures more than 2 cubic feet (3,456 cubic inches). Dimensions for rectangular pieces are determined by measuring the length, width, and height in inches, rounding off (see 604.7.0) each measurement to the nearest whole inch and multiplying the length by the width by the height. Dimensions for nonrectangular pieces are calculated as above and the result multiplied by an adjustment factor of 0.785. If either calculation exceeds 3,456 cubic inches, the piece is subject to the nonstandard fee.

d. A piece may be subject to both a length (1.8a, 1.8b) and a cube (1.8c) nonstandard fee.

e. Shipping Services file manifests or other approved electronic documentation must include the accurate dimensions (length, width, height) of all pieces that exceed 22 inches.

f. Mailers of pieces exceeding 22 inches and with Shipping Services file manifests, or other approved electronic documentation, that do not meet the requirement to include the piece's accurate dimensions will be assessed a dimension-noncompliance fee under 1.8.

1.8 Dimension-Noncompliance Fee

Mailers of USPS Ground Advantage—Commercial mailpieces required to include the mailpiece's dimensions (length, width, height) in the Shipping Services file manifest or other approved electronic documentation under 1.4.3 or 1.7 will be charged a dimension-noncompliance fee (see Notice 123—Price List) if the piece's dimensions are omitted or inaccurate in the Shipping Services file manifest or other approved electronic documentation. A mailpiece is subject to only one dimension-noncompliance fee.

[Revise the heading of 2.0 to read as follows:]

2.0 Content Standards for USPS Ground Advantage—Commercial Parcels

2.1 General

[Revise the text of 2.1 to read as follows:]

In addition to restricted material described in 601.8.0, parcels mailed at USPS Ground Advantage—Commercial prices may not contain documents or personal correspondence, except that such parcels may contain invoices, receipts, incidental advertising, and other documents that relate in all substantial respects to merchandise contained in the parcels.

* * * * *

[Revise the heading of 3.0 to read as follows:]

3.0 Basic Eligibility Standards for USPS Ground Advantage—Commercial

3.1 Description of Service

[Revise the text of 3.1 to read as follows:]

USPS Ground Advantage—Commercial parcels receive expeditious handling and transportation. The USPS does not guarantee the delivery of USPS Ground Advantage—Commercial within a specified time. Certain USPS Ground Advantage—Commercial mailpieces might receive deferred service.

3.2 Defining Characteristics

3.2.1 Inspection of Contents

[Revise the text of 3.2.1 to read as follows:]

Articles mailed at USPS Ground Advantage—Commercial prices are not sealed against postal inspection. Regardless of physical closure, the mailing of articles at USPS Ground Advantage—Commercial prices constitutes consent by the mailer to postal inspection of the contents.

3.2.2 Forwarding and Return Service

[Revise the text of 3.2.2 to read as follows:]

The postage price of USPS Ground Advantage—Commercial parcels includes forwarding service to a new address for up to 12 months and return of undeliverable parcels to the sender.

3.2.3 Additional and Extra Services

[Revise the text of 3.2.3 to read as follows:]

Extra services are available for USPS Ground Advantage—Commercial parcels under 503 and for Hold for Pickup service under 507.3.0.

3.3 Additional Basic Standards

[Revise the introductory text of 3.3 to read as follows:]

All USPS Ground Advantage—Commercial parcels must:

* * * * *

[Revise the text of 3.3 by adding a new item c to read as follows:]

c. Bear a return address.

3.4 IMpb Standards

[Revise the first sentence of 3.4 to read as follows:]

All USPS Ground Advantage—Commercial parcels must bear an Intelligent Mail package barcode (IMpb) prepared under 204.2.0. * * *

[Revise the heading of 4.0 to read as follows:]

4.0 Price Eligibility for USPS Ground Advantage—Commercial

* * * * *

284 Postage Payment and Documentation

1.0 Basic Standards for Postage Payment

[Revise the first sentence of 1.0 to read as follows:]

Postage for USPS Ground Advantage—Commercial parcels must be paid with postage evidencing system postage or permit imprint as specified below. * * *

[Revise the heading of 2.0 to read as follows:]

2.0 Postage Payment for USPS Ground Advantage—Commercial

2.1 Permit Imprint Postage

[Revise the first sentence of 2.1 to read as follows:]

All USPS Ground Advantage—Commercial parcels may bear permit imprint postage under 604.5.0. * * *

[Revise the heading and text of 2.2 to read as follows:]

2.2 Affixed Postage for USPS Retail Ground—Commercial

Each USPS Retail Ground—Commercial parcel bearing postage evidencing system indicia (IBI Meter or PC Postage) must bear the full numerical value of postage at the USPS Retail Ground—Commercial price for which it qualifies.

285 Mail Preparation

[Revise the heading and introductory text of 1.0 to read as follows:]

1.0 Preparation for USPS Ground Advantage—Commercial

The following standards apply to single-piece USPS Ground Advantage—Commercial:

* * * * *

[Revise the text of item b to read as follows:]

b. There are no sorting requirements for single-piece USPS Ground Advantage—Commercial parcels paid with postage evidencing system postage.

* * * * *

[Delete 3.0, Optional ADC Presort, and add new 3.0 and 4.0 to read as follows:]

3.0 Preparing a Cubic Mailing

Cubic mailpieces for multiple price tiers may be combined in the same container.

* * * * *

4.0 Pickup on Demand Service

Pickup on Demand service (507.7.0) is available for a fee only from designated ZIP Codes and can be requested online at www.usps.com.

286 Enter and Deposit

1.0 Deposit

1.1 Time and Location of Deposit

[Revise the text of 1.1 to read as follows:]

Mailers may deposit USPS Ground Advantage—Commercial with parcels postage evidencing indicia at any Postal Service facility, preferably near the customer's local Post Office. USPS Ground Advantage—Commercial parcels bearing a permit imprint must be deposited under 604.5.0 and 705.

1.2 Approved Collections

[Revise the introductory text of 1.2 to read as follows:]

The USPS may collect USPS Ground Advantage—Commercial parcels at a mailer`s facility if part of an approved collection service for other classes of mail; space is available on the transportation; and:

* * * * *

500 Additional Mailing Services

503 Extra Services

1.0 Basic Standards for All Extra Services

* * * * *

1.4.1 Eligibility—Domestic Mail

* * * * *

Exhibit 1.4.1 Eligibility—Domestic Mail

Extra service | Eligible mail | Additional combined extra services

[Revise Exhibit 1.4.1 under the “Eligible Mail” column by removing “USPS Retail Ground” in the Insurance, Certificate of Mailing, Certificate of Bulk Mailing, Return Receipt, Signature Confirmation, Signature Confirmation Restricted Delivery, and COD, line items.]

* * * * *

Registered Mail

[Revise “Register Mail” services by replacing First-Class Package Service—Commercial with USPS Ground Advantage—Commercial and First-Class Package—Retail with USPS Ground Advantage—Retail under the “Eligible Mail” column.]

* * * * *

Certified Mail

[Revise 1.4.1 “Certified Mail” services by deleting First-Class Package Service—Commercial and First-Class Package—Retail under the “Eligible Mail” column.]

* * * * *

Insurance

[Revise “Insurance” services by replacing First-Class Package Service—Commercial with USPS Ground Advantage—Commercial and First-Class Package—Retail with USPS Ground Advantage—Retail under the “Eligible Mail” column.]

* * * * *

Certificate of Mailing

[Revise “Certificate of Mailing” services by deleting First-Class Package Service—Commercial and First-Class Package—Retail under the “Eligible Mail” column.]

* * * * *

Certificate of Bulk Mailing

[Revise “Certificate of Bulk Mailing” services by deleting First-Class Package Service—Commercial and First-Class Package—Retail under the “Eligible Mail” column.]

* * * * *

Return Receipt

[Revise “Return Receipt” services by replacing First-Class Package Service—Commercial with USPS Ground Advantage—Commercial and First-Class Package—Retail with USPS Ground Advantage—Retail under the “Eligible Mail” column.]

* * * * *

Signature Confirmation

[Revise “Signature Confirmation” service by replacing First-Class Package Service—Commercial with USPS Ground Advantage—Commercial and First-Class Package—Retail with USPS Ground Advantage—Retail under the “Eligible Mail” column.]

* * * * *

Signature Confirmation Restricted Delivery

[Revise “Signature Confirmation Restricted Delivery” service by replacing First-Class Package Service—Commercial with USPS Ground Advantage—Commercial and First-Class Package—Retail with USPS Ground Advantage—Retail under the “Eligible Mail” column.]

* * * * *

Adult Signature Required

[Revise “Adult Signature Required” services by replacing First-Class Package Service—Commercial with USPS Ground Advantage—Commercial under the “Eligible Mail” column.]

* * * * *

Collect on Delivery (COD)

[Revise “Collect on Delivery” services by replacing First-Class Package Service—Commercial with USPS Ground Advantage—Commercial and First-Class Package—Retail with USPS Ground Advantage—Retail under the “Eligible Mail” column.]

* * * * *

1.4.3 Eligibility—Domestic Returns

* * * * *

Exhibit 1.4.3 Eligibility—Domestic Returns

* * * * *

Exhibit 1.4.3 Eligibility—Domestic Returns

[Revise Exhibit 1.4.3 by adding a new line item “Priority Mail Express Return Service” at the top of the table to read as follows:]

Return services | Eligible extra services (paid by EPS account or by permit holder): Insurance $500 or less | Eligible extra services (paid by EPS account or by permit holder): Insurance more than $500
USPS Returns:
Priority Mail Express Return Service | 1 | 1, 2, 3

* * * * *

[Revise the “First-Class Package Return Service” line item by renaming as “USPS Ground Advantage Return Service”.]

[Delete the “Ground Return Service” line item in its entirety.]

* * * * *

[Revise the text of footnote #1 in Exhibit 1.4.3 to read as follows:]

1. Insurance, up to a maximum of $100.00, is included for Priority Mail Express Return Service, Priority Mail Return Service, and USPS Ground Advantage Return Service.

* * * * *

4.0 Insured Mail

* * * * *

4.3 Basic Standards

* * * * *

4.3.2 Ineligible Matter

The following types of mail may not be insured:

* * * * *

[Revise the text of item e to read as follows:]

e. First-Class Mail, USPS Ground Advantage—Retail, USPS Ground Advantage—Commercial, and Priority Mail may be insured, if it contains matter that is eligible to be mailed at USPS Marketing Mail, or Package Services prices.

* * * * *

7.0 USPS Tracking

7.1 Basic Standards

* * * * *

7.1.3 Additional Physical Standards

[Revise the last sentence in the introductory text of 7.1.3 to read as follows:]

* * * In addition to the applicable standards in 101 and 201 and the purposes of USPS Tracking with Media Mail, Library Mail, Bound Printed Matter, or Parcel Select, the parcel must meet these additional requirements:

* * * * *

8.0 USPS Signature Services

8.1 Basic Standards

* * * * *

8.1.2 Standards for Signature Confirmation

[Revise the introductory text of 8.1.2 to read as follows:]

For Signature Confirmation with Media Mail, Library Mail, Bound Printed Matter, or Parcel Select pieces meeting the physical standards under 201.7.0, the parcel must meet these additional requirements:

* * * * *

505 Return Services

1.0 Business Reply Mail (BRM)

1.1 BRM Postage and Fees

1.1.1 Basic BRM

[Revise the first and second sentence of 1.1.1 to read as follows:]

For basic BRM, a permit holder is required to pay an annual permit fee as provided under 1.2 and a per-piece fee under 1.1.7 in addition to the applicable Retail First-Class Mail (stamped for letters), USPS Ground Advantage—Retail, or Priority Mail postage for each returned piece. For USPS Ground Advantage—Retail, or Priority Mail BRM pieces exceeding 13 ounces in weight, if the zone cannot be determined from a return address or cancellation, then the permit holder is charged zone 4 postage based on the weight of the piece. * * *

* * * * *

1.1.5 Bulk Weight Averaged Nonletter-Size BRM

[Revise the text of 1.1.5 to read as follows:]

In addition to an annual permit fee (which will apply under 1.2.3 for the return of any flat-size pieces), per piece fee and the applicable Retail First-Class Mail, USPS Ground Advantage—Retail, or Priority Mail postage, permit holders participating in bulk weight averaged nonletter-size BRM under 1.8 must pay an annual account maintenance fee, and a monthly maintenance fee.

* * * * *

1.3 Basic Standards

1.3.1 Description

[Revise the first and second sentence of 1.3.1 to read as follows:]

Business Reply Mail (BRM) service enables a permit holder to receive First-Class Mail, USPS Ground Advantage—Retail, and Priority Mail back from customers. The permit holder guarantees payment of the applicable Retail First-Class Mail, USPS Ground Advantage—Retail, or Priority Mail postage, plus a per piece fee, on all returned BRM which includes any incomplete, blank, or empty BRM cards and envelopes and any mailable matter with a BRM label affixed. BRM cards, envelopes, self-mailers, cartons, and labels may be distributed by a BRM permit holder in any quantity for return to any Post Office in the United States and its territories and possessions, including military Post Offices overseas. * * *

* * * * *

3.0 USPS Returns Service

3.1 Basic Standards

3.1.1 Description

[Revise the introductory text of 3.1.1 to read as follows:]

USPS Returns service allows an authorized account holder to pay the postage and fees on single-piece priced commercial Priority Mail Express, Priority Mail, or USPS Ground Advantage—Commercial, packages returned to the account holder by senders (mailers) via a return label, meeting the standards in 3.1.4, produced by the account holder. Unless otherwise restricted, any mailable matter may be mailed using any of the USPS Returns service options (Priority Mail Express Return Service, Priority Mail Return Service, USPS Ground Advantage Return Service). Any content that constitutes First-Class Mail matter may only be mailed using Priority Mail Express Return Service or Priority Mail Return Service. USPS Returns service is subject to the following conditions:

* * * * *

3.1.3 Postage and Prices

Postage and prices are subject to the following:

[Revise the first sentence of item a to read as follows:]

a. Postage is calculated based on the weight of the return package and zone associated with the point of origin and delivery ZIP Code subject to the eligibility for commercial prices and fees based on the class of mail under 220 and 280, except that postage for USPS Returns in flat-rate packaging is based on the packaging type used and the associated Universal Product Code (UPC) on the packaging. * * *

[Revise the introductory text of item b to read as follows:]

b. Prices for Priority Mail Express Return Service, Priority Mail Return Service and USPS Ground Advantage Return Service packages are charged as follows:

[Renumber items b1 though b3 as items b2 through b4, and add new item b1 to read as follows:]

1. Priority Mail Express commercial prices are available for account holders using Priority Mail Express Return Service, when all applicable requirements are met.

* * * * *

[Revise the text of renumbered b3 to read as follows:]

2. USPS Ground Advantage—Commercial prices are available for USPS Ground Advantage Return Service packages when all applicable requirements are met.

[Delete renumbered item b4 in its entirety.]

* * * * *

c. The account holder or mailer may obtain extra and additional services as follows:

[Revise the text of item c1 to read as follows:]

1. Insurance is available for USPS Returns service (see 503.4). Insurance is included with the postage for Priority Mail Express Return service, Priority Mail Return service, and USPS Ground Advantage Return service (see 503.4.2). Additional insurance for Priority Mail Express Return service, Priority Mail Return service, and USPS Ground Advantage Return service is available to the account holder for a fee on packages that have the applicable STC imbedded into the IMpb on the label, and for which the account holder has provided electronic data that supports the value of the merchandise (see 503.4.3.1a). Only the account holder may file a claim (see 609). Mailers returning a USPS Returns service package may not obtain insurance at their own expense.

* * * * *

3.1.5 Noncompliant Labels

[Revise the second sentence of 3.1.5 to read as follows:]

* * * When noncompliant labels, including discontinued labels, are affixed to USPS Returns service packages, the permit holder will be assessed the appropriate USPS Ground Advantage—Retail price calculated from the package's initial entry point (first physical scan) in the USPS network to its delivery address.

* * * * *

3.1.6 Enter and Deposit

The following standards apply:

a. The EPS account holder's customers may mail the USPS Returns service package via the following:

* * * * *

[Revise the text of item a3 to read as follows:]

3. In any collection receptacle (e.g., collection box, lobby package drop unit) as permitted by each receptacle's limitations (see 3.1.6b for USPS Returns service packages with extra services);

* * * * *

3.2 Additional Standards

Additional mailing standards applicable to each service option are as follows:

[Renumber items a through c as items b through d and add new item a to read as follows:]

a. Priority Mail Express Return service may contain any mailable matter meeting the standards in 201.8.0 and 213.2.0. APO/FPO/DPO mail is subject to standards in 703.2.0 and 703.4.0, and Department of State mail is subject to standards in 703.3.0. Priority Mail Express Return service receives expeditious handling and transportation, with service standards in accordance with Priority Mail Express. Priority Mail Express Return service mailed under a specific customer agreement is charged postage according to the individual agreement.

* * * * *

[Revise the text of renumbered item c to read as follows:]

c. USPS Ground Advantage Return service may contain mailable matter meeting the standards in 201.8.0 and 283.2.0. USPS Ground Advantage Return service handling, transportation, and eligibility of contents are the same as for outbound USPS Ground Advantage—Commercial parcels under standards in 283.0. USPS Ground Advantage Return service packages may not contain documents or personal correspondence, except that such packages may contain invoices, receipts, incidental advertising, and other documents that relate in all substantial respects to merchandise contained in the package.

[Delete renumbered Item d in its entirety.]

* * * * *

507 Mailer Services

1.0 Treatment of Mail

* * * * *

1.4.5 Extra Services

Mail with extra services is treated according to the charts for each class of mail in 1.5, except that:

[Revise the text of items a and b to read as follows:]

a. Undeliverable-as-addressed Certified Mail is treated as First-Class Mail and USPS Ground Advantage—Retail.

b. All insured First-Class Mail, USPS Ground Advantage—Retail, USPS Ground Advantage—Commercial, and Priority Mail, pieces are forwarded and returned at no additional charge. All insured USPS Marketing Mail, Package Services, and Parcel Select pieces are forwarded or returned.

* * * * *

1.5 Treatment for Ancillary Services by Class of Mail

1.5.1 First-Class Mail, First-Class Package Service—Retail, First-Class Package Service—Commercial, and Priority Mail

[Revise the introductory text of 1.5.1 to read as follows:]

Undeliverable-as-addressed First-Class Mail (including postcards), USPS Ground Advantage—Retail, USPS Ground Advantage—Commercial, and Priority Mail pieces are treated under Exhibit 1.5.1, with these additional conditions:

* * * * *

[Revise the last sentence of item b to read as follows:]

b. * * * Undeliverable First-Class Mail, USPS Ground Advantage—Retail, USPS Ground Advantage—Commercial, or Priority Mail pieces with any alternative addressing format are returned with the reason for nondelivery attached, only if the address is incorrect or incomplete or the mail is undeliverable for another reason as shown in Exhibit 1.4.1; however, if such mail is endorsed Change Service Requested, piece is disposed of and an ACS record is provided for the same reasons.

* * * * *

[Revise the text of item d to read as follows:]

d. First-Class Mail, USPS Ground Advantage—Retail, USPS Ground Advantage—Commercial, or Priority Mail pieces bearing USPS Marketing Mail markings and endorsements under 202 and 244.5.1 for letters, flats, and parcels, receives forwarding, return, and address correction services for USPS Marketing Mail under 1.5.3.

e. “Change Service Requested” is not permitted for the following:

* * * * *

[Revise the text of items e2 and e3 to read as follows:]

2. First-Class Mail, USPS Ground Advantage—Retail, USPS Ground Advantage—Commercial, or Priority Mail pieces containing hazardous materials under 601.8.0.

3. First-Class Mail, USPS Ground Advantage—Retail, USPS Ground Advantage—Commercial or Priority Mail pieces with an extra service other than USPS Tracking or Signature Confirmation.

[Revise the introductory text of item f to read as follows:]

f. Address Change Service under 4.0 is available for First-Class Mail, USPS Ground Advantage—Retail, USPS Ground Advantage—Commercial, and Priority Mail pieces with the ACS participant code for an authorized ACS participant and a valid ancillary service endorsement. Mailers participating in OneCode ACS under 4.2.6 may print an Intelligent Mail barcode on First-Class Mail automation letters instead of a participant code and endorsement. The only endorsements permitted on First-Class Mail, USPS Ground Advantage—Retail, USPS Ground Advantage—Commercial and Priority Mail valid ACS pieces are “Address Service Requested”, “Change Service Requested” or “Electronic Service Requested” subject to the following:

* * * * *

[Revise the heading of Exhibit 1.5.1 to read as follows:]

Exhibit 1.5.1 Treatment of Undeliverable First-Class Mail, USPS Ground Advantage—Retail, USPS Ground Advantage—Commercial and Priority Mail

* * * * *

“Change Service Requested”

* * * * *

Restrictions (for Options 1 and 2)

[Revise the text of item 1 under “Restrictions (for Options 1 and 2)” to read as follows:]

(1) This endorsement is limited to use on valid mailpieces bearing a proper ACS participant code and only for: (a) Priority Mail containing perishable matter (other than live animals) and the marking “Perishable” and; (b) First-Class Mail, USPS Ground Advantage—Retail, and USPS Ground Advantage—Commercial (excluding hazardous materials).

* * * * *

1.5.2 Periodicals

Undeliverable-as-addressed (UAA) Periodicals publications (including publications pending Periodicals authorization) are treated as described in Exhibit 1.5.2, with these additional conditions:

* * * * *

[Revise the third sentence of item e to read as follows:]

e. * * * Each returned piece is charged the single-piece First-Class Mail or USPS Ground Advantage—Retail price for the weight and shape of the piece, and the letter-size nonmachinable surcharge if applicable. * * *

* * * * *

Exhibit 1.5.2 Treatment of Undeliverable Periodicals

* * * * *

“Address Service Requested”

If no change-of-address order on file:

[Revise the text under “Address Service Requested”, If no change-of-address order on file:, to read as follows:]

Piece returned with reason for nondelivery attached (only return postage charged at First-Class Mail or USPS Ground Advantage—Retail single-piece price as appropriate for weight of piece).

If change-of-address order on file:

* * * * *

[Revise the second bullet under “Address Service Requested”, If change-of-address order on file:, to read as follows:]

After 60-day period: Piece returned with new address or reason for nondelivery attached (in either case, only return postage charged at First-Class Mail or USPS Ground Advantage—Retail single-piece price as appropriate for weight of piece).

* * * * *

1.5.3 USPS Marketing Mail and Parcel Select Lightweight

Undeliverable-as-addressed (UAA) USPS Marketing Mail and Parcel Select Lightweight pieces are treated as described in Exhibit 1.5.3, with these additional conditions:

* * * * *

[Revise the text of item h to read as follows:]

h. A returned piece endorsed “Return Service Requested” is charged the applicable single-piece First-Class Mail or USPS Ground Advantage—Retail price for the weight and shape of the piece, and the nonmachinable surcharge if applicable.

* * * * *

Exhibit 1.5.3 Treatment of Undeliverable USPS Marketing Mail and Parcel Select Lightweight

* * * * *

“Address Service Requested” (Shipper Paid Forwarding/Return participants via ACS only)

* * * * *

Shipper Paid Forwarding/Return Option 2

If no change-of-address order on file:

[Revise the text under “Address Service Requested” (Shipper Paid Forwarding/Return Option 2), If no change-of-address order on file:, to read as follows:]

Piece returned with reason for nondelivery attached; postage due charged as follows: at applicable First-Class Mail, or USPS Ground Advantage—Retail single-piece price for the weight of the piece. Separate notice provided (electronic ACS fee is charged).

If change-of-address order on file:

[Revise the first bullet under “Address Service Requested” (Shipper Paid Forwarding/Return Option 2), If change-of-address order on file:, to read as follows:]

Months 1 through 12: Piece forwarded. Forwarding postage is charged to the mailer as follows: at applicable First-Class Mail, or USPS Ground Advantage—Retail single-piece price for the weight of the piece. Separate notice of new address provided (electronic ACS fee charged).

* * * * *

Shipper Paid Forwarding/Return Option 3

If no change-of-address order on file:

[Revise the text under “Address Service Requested” (Shipper Paid Forwarding/Return Option 3), If no change-of-address order on file:, to read as follows:]

Piece returned with reason for nondelivery attached; postage due charged as follows: at applicable First-Class Mail, or USPS Ground Advantage—Retail single-piece price for the weight of the piece. Separate notice provided (electronic ACS fee is charged).

If change-of-address order on file:

[Revise the bullets under “Address Service Requested” (Shipper Paid Forwarding/Return Option 3), If change-of-address order on file:, to read as follows:]

Months 1 through 12: Piece forwarded. Forwarding postage is charged to the mailer as follows: at applicable First-Class Mail, or USPS Ground Advantage—Retail single-piece price for the weight of the piece. Separate notice of new address provided (electronic ACS fee charged).

Months 13 through 18: Piece returned with new address attached; return postage is charged to mailer as follows: at applicable First-Class Mail, or USPS Ground Advantage—Retail single-piece price for the weight of the piece. Separate notice of new address provided (electronic ACS fee is charged).

After month 18: Piece returned with reason for nondelivery; return postage is charged to mailer as follows: at applicable First-Class Mail, USPS Ground Advantage—Retail single-piece price for the weight of the piece. Separate notice of reason for nondelivery provided (electronic ACS fee is charged).

“Address Service Requested—BPRS” (BPRS participants only)

* * * * *

If change-of-address order on file:

[Revise the first bullet under “Address Service Requested” (BPRS participants only), If change-of-address order on file:, to read as follows:]

Months 1 through 12: Piece forwarded (no charge to addressee); separate ACS notice of new address provided (ACS address correction fee and forwarding postage charged at First-Class Mail, or USPS Ground Advantage—Retail, single-piece price as appropriate for weight of piece, via mailer's ACS participant code).

* * * * *

“Return Service Requested” (Except for BPRS participants)

Option 1

[Revise the text under “Return Service Requested” (Except for BPRS participants) Option 1, to read as follows:]

Piece returned with new address or reason for nondelivery attached. In either case, only return postage is charged at First-Class Mail, or USPS Retail Ground—Retail single-piece price, as appropriate for weight of piece.

Option 2 (Available via ACS only)

* * * * *

In all cases (regardless of whether a change-of-address order is on file):

[Revise the text under “Return Service Requested” (Except for BPRS participants) Option 2, In all cases (regardless of whether a change-of-address order is on file), to read as follows:]

Piece returned with new address or reason for non-delivery attached and separate ACS notice of reason for nondelivery provided. In either case, both the address correction fee is charged, and return postage is charged at First-Class Mail, or USPS Ground Advantage—Retail single-piece price, as appropriate for weight of piece.

* * * * *

“Change Service Requested” (Shipper Paid Forwarding participants via ACS only)

* * * * *

If change-of-address order on file:

[Revise the first bullet under “Change Service Requested” (Shipper Paid Forwarding participants via ACS only) to read as follows:]

Months 1 through 12: Piece forwarded; postage due charged to the mailer as follows; at applicable First-Class Mail, or USPS Ground Advantage—Retail single-piece price for the weight of the piece; separate notice of new address provided (electronic ACS fee charged).

* * * * *

[Revise footnote #2 to read as follows:]

2. The weighted (per piece) fee is the First-Class Mail, or USPS Ground Advantage—Retail single-piece price and any nonmachinable surcharge (see 133.1.0), multiplied by 2.472, rounding any fractions to the next whole cent.

* * * * *

[Revise the heading and introductory text of 1.5.4 to read as follows:]

1.5.4 Package Services and Parcel Select

Undeliverable-as-addressed (UAA) Package Services and Parcel Select (see 1.5.3 for Parcel Select Lightweight) mailpieces are treated as described in Exhibit 1.5.4, with these additional conditions:

[Revise the text of item a to read as follows:]

a. Package Services and Parcel Select mail is forwarded only to domestic addresses.

[Revise the third sentence of item b to read as follows:]

b. * * * Undeliverable Parcel Select, Media Mail, and Library Mail with this address format are returned with the reason for nondelivery attached only if the address is incorrect or incomplete, or the mail is undeliverable for another address-related reason. ***

[Revise the text of items c, d, and e, to read as follows:]

c. The endorsement “Change Service Requested” is not permitted for Package Services or Parcel Select mailpieces containing hazardous materials under 601.8.0.

d. If a Package Services (except for unendorsed Bound Printed Matter) or Parcel Select mailpiece and any attachment are not opened by the addressee, the addressee may refuse delivery of the piece and have it returned to the sender without affixing postage. Pieces endorsed “Change Service Requested” are not returned to sender. If a Package Services or Parcel Select piece or any attachment to that piece is opened by the addressee, the addressee must affix the applicable postage to return the piece to the sender.

e. An undeliverable Package Services (except for unendorsed Bound Printed Matter) or a Parcel Select mailpiece that bears postage with a postage evidencing imprint and that has an illegible (or no) return address is returned to the meter licensee or PC Postage customer upon payment of the return postage. The reason for nondelivery is attached, with no address correction fee. All Package Services (except unendorsed Bound Printed Matter) and Parcel Select pieces must have a legible return address.

* * * * *

[Revise the heading of Exhibit 1.5.4 to read as follows:]

Exhibit 1.5.4 Treatment of Undeliverable Package Services, and Parcel Select

Mailer Endorsement | USPS Treatment of UAA Pieces.

* * * * *

“Address Service Requested” ¹ (Except for Shipper Paid Forwarding participants)

If no change-of-address order on file:

Piece is returned with reason for nondelivery attached (only return postage charged) as follows:

[Revise the two bullets under “Address Service Requested,” “If no change-of-address order on file:” to read as follows:]

Parcel Select: at the USPS Ground Advantage—Commercial price plus the additional service fee.

Package Services: at the appropriate single-piece price for the specific class of mail.

If change-of-address order on file:

[Revise the first bullet and items a and b under “Address Service Requested,” “If change-of-address order on file:” to read as follows:]

Months 1 through 12: Package Services forwarded postage due at the single-piece price for the class of mail. Parcel Select forwarded as postage due to addressee at the USPS Ground Advantage—Commercial price plus the additional service fee. In both cases, separate notice of new address is provided (address correction fee charged). If addressee refuses to pay postage due, piece is returned with reason for nondelivery attached and postage charged as follows:

a. Parcel Select: at the USPS Ground Advantage—Commercial price plus the additional service fee.

b. Package Services: at the single-piece price for the class of mail.

* * * * *

“Address Service Requested” Shipper Paid Forwarding/Return Option 1 (Shipper Paid Forwarding/Return participants via ACS only)

If no change-of-address order on file:

[Revise the text under “Address Service Requested,” Shipper Paid Forwarding/Return Option 1 (Shipper Paid Forwarding/Return participants via ACS only) “If no change-of-address order on file:” to read as follows:]

Parcel returned with reason for nondelivery attached; postage due charged as follows: at the applicable Package Services single-piece price or the USPS Ground Advantage—Commercial price plus the additional service fee.

If change-of-address order on file:

[Revise the first bullet under “Address Service Requested,” Shipper Paid Forwarding/Return Option 1 (Shipper Paid Forwarding/Return participants via ACS only) “If change-of-address order on file:” to read as follows:]

Months 1 through 12: Parcel forwarded. Forwarding postage is charged to the mailer as follows; at the applicable Package Services single-piece price or the USPS Ground Advantage—Commercial price plus the ACS & Shipper Paid Forward/Return additional service fee. Separate notice of new address provided (electronic ACS fee charged).

* * * * *

Shipper Paid Forwarding/Return Option 2

If no change-of-address order on file:

[Revise the text under “Address Service Requested,” Shipper Paid Forwarding/Return Option 2 “If no change-of-address order on file:” to read as follows:]

Piece returned with reason for nondelivery attached; Postage due charged as follows: at the applicable Package Services single-piece price or the USPS Ground Advantage—Commercial price plus the additional service fee. Separate notice provided (electronic ACS fee is charged).

If change-of-address order on file:

[Revise the first bullet under “Address Service Requested,” Shipper Paid Forwarding/Return Option 2 “If change-of-address order on file:” to read as follows:]

Months 1 through 12: Parcel forwarded. Forwarding postage is charged to the mailer as follows; at the applicable Package Services single-piece price or the USPS Ground Advantage—Commercial price plus the ACS & Shipper Paid Forward/Return additional service fee. Separate notice of new address provided (electronic ACS fee charged).

* * * * *

Shipper Paid Forwarding/Return Option 3

If no change-of-address order on file:

[Revise the text under “Address Service Requested,” Shipper Paid Forwarding/Return Option 3 “If no change-of-address order on file:” to read as follows:]

Piece returned with reason for nondelivery attached; Return postage is charged to the mailer as follows: at the Package Services single-piece price, or the USPS Ground Advantage—Commercial price plus the ACS & Shipper Paid Forward/Return additional service fee. Separate notice provided (electronic ACS fee is charged).

If change-of-address order on file:

[Revise the first bullet under “Address Service Requested,” Shipper Paid Forwarding/Return Option 3 “If change-of-address order on file:” to read as follows:]

Months 1 through 12: Parcel forwarded. Forwarding postage is charged to the mailer as follows: at the Package Services single-piece price or the USPS Ground Advantage—Commercial price plus the ACS & Shipper Paid Forward/Return additional service fee. Separate notice of new address provided (electronic ACS fee is charged).

* * * * *

“Forwarding Service Requested” ²

If no change-of-address order on file:

[Revise the text under “Forwarding Service Requested,” “If no change-of-address order on file:” to read as follows:]

Piece returned with reason for nondelivery attached; return postage charged as follows at the applicable Package Services single-piece price or the USPS Ground Advantage—Commercial price plus the additional service fee.

If change-of-address order on file:

[Revise the first bullet under “Forwarding Service Requested,” “If change-of-address order on file:” to read as follows:]

Months 1 through 12: Package Services forwarded postage due at the single-piece price for the class of mail. Parcel Select forwarded as postage due to addressee at the USPS Ground Advantage—Commercial price plus the additional service fee. If addressee refuses to pay postage due, piece is returned with reason for nondelivery attached; postage charged as follows: at the applicable Package Services single-piece price or the USPS Ground Advantage—Commercial price plus the additional service fee.

* * * * *

“Return Service Requested” Option 1

In all cases (regardless of whether a change-of-address order is on file):

[Revise the text under “Return Service Requested,” Option 1 “In all cases (regardless of whether a change-of-address order is on file):” to read as follows:]

Piece returned with new address or reason for nondelivery attached. In either case, only return postage is charged as follows: at the Package Services single-piece price or the USPS Ground Advantage—Commercial price plus the additional service fee.

Option 2 (Available via ACS only)

In all cases (regardless of whether a change-of-address order is on file):

[Revise the text under “Return Service Requested,” Option 2 (Available via ACS only) “In all cases (regardless of whether a change-of-address order is on file):” to read as follows:]

Piece returned with new address or reason for non-delivery attached, return postage is charged as follows: at the applicable Package Services single-piece price or the USPS Ground Advantage—Commercial price plus the additional service fee. Separate ACS notice of reason for nondelivery provided (electronic ACS fee charged).

“Change Service Requested” ³ Option 1 (Valid for all pieces, including ACS participating pieces)

If no change-of-address order on file, or if change-of-address order is on file:

* * * * *

Restrictions:

The following restrictions apply:

* * * * *

[Revise the text of item 2 to read as follows:]

(2) This endorsement is not permitted for Package Services containing hazardous materials.

* * * * *

“Change Service Requested” (For Shipper Paid Forwarding/Return participants via ACS only)

* * * * *

If change-of-address order on file:

[Revise the first bullet under “Change Service Requested,” (For Shipper Paid Forwarding/Return participants via ACS only) “If change-of-address order on file:” to read as follows:]

Months 1 through 12: Parcel forwarded; postage due charged to the mailer as follows: at the Package Services single-piece price for the specific class of mail or the USPS Ground Advantage—Commercial price plus the ACS & Shipper Paid Forward/Return additional service fee; separate notice of new address provided (electronic ACS fee charged).

* * * * *

Restrictions:

The following restrictions apply:

* * * * *

[Revise the text of item 2 to read as follows:]

(2) This endorsement is not permitted for Package Services containing hazardous materials.

* * * * *

1.6 Attachments and Enclosures

1.6.1 Periodicals

[Revise the first sentence of 1.6.1 to read as follows:]

Undeliverable Periodicals (including publications pending Periodicals authorization) with a nonincidental First-Class Mail attachment or enclosure are returned at the single-piece First-Class Mail price for the weight and shape of the piece, and the nonmachinable surcharge if applicable, or USPS Ground Advantage—Retail price for the weight and destination of the piece. * * *

1.6.2 USPS Marketing Mail

[Revise the first sentence of 1.6.2 to read as follows:]

Undeliverable, unendorsed USPS Marketing Mail with a nonincidental First-Class Mail attachment or enclosure is returned at the single-piece First-Class Mail price for the weight and shape of the piece or USPS Ground Advantage—Retail price for the weight and destination of the piece. * * *

1.6.3 Package Services and Parcel Select

Undeliverable, unendorsed mailpieces with a First-Class Mail attachment or enclosure are forwarded or returned as follows:

[Revise the text of item a to read as follows:]

a. Parcel Select at the USPS Ground Advantage—Commercial price plus the additional service fee.

* * * * *

1.7 Mixed Classes

* * * * *

1.7.4 Parcel

[Revise the text of 1.7.4 to read as follows:]

A combination parcel containing Media Mail and Bound Printed Matter is charged postage at the USPS Ground Advantage—Retail price when forwarded or returned.

* * * * *

1.8 Returning Mail

* * * * *

[Revise the heading of 1.8.3 to read as follows:]

1.8.3 Priority Mail Express, Priority Mail, First-Class Mail, USPS Ground Advantage—Retail, and USPS Ground Advantage—Commercial

[Revise the introductory text of 1.8.3 to read as follows:]

Mailpieces sent as Priority Mail Express, Priority Mail, First-Class Mail, USPS Ground Advantage—Retail, or USPS Ground Advantage—Commercial that cannot be delivered as addressed or forwarded to a new address, unless otherwise requested by the sender, are returned to the sender at no additional charge. Excluding pieces containing live animals, the following are disposed of by the USPS:

* * * * *

[Revise the text of item b to read as follows:]

b. First-Class Mail, USPS Ground Advantage—Retail, or USPS Ground Advantage—Commercial pieces with a valid ACS participant code and endorsed “Change Service Requested.”

* * * * *

1.9 Dead Mail

1.9.1 Basic Information

* * * The disposition of dead mail items is as follows:

* * * * *

[Revise the text of item e to read as follows:]

e. Except for unendorsed USPS Marketing Mail, undeliverable USPS Marketing Mail, Package Services, and insured First-Class Mail, USPS Ground Advantage—Retail, or USPS Ground Advantage—Commercial pieces containing USPS Marketing Mail, or Package Services enclosures, that cannot be returned because of an incorrect, incomplete, illegible, or missing return address is opened and examined to identify the sender or addressee.

* * * * *

2.0 Forwarding

* * * * *

2.2 Forwardable Mail

* * * * *

2.2.3 Discontinued Post Office

[Revise the text of 2.2.3 to read as follows:]

All Priority Mail Express, Priority Mail, First-Class Mail, USPS Ground Advantage—Retail, USPS Ground Advantage—Commercial, Periodicals, and Package Services pieces addressed to a discontinued Post Office may be forwarded without added charge to a Post Office that the addressee designates as more convenient than the office to which the USPS ordered the mail sent.

2.2.4 Rural Delivery

[Revise the text of 2.2.4 to read as follows:]

When rural delivery service is established or changed, a customer of any office receiving mail from the rural carrier of another office may have all Priority Mail Express, Priority Mail, First-Class Mail, USPS Ground Advantage—Retail, USPS Ground Advantage—Commercial, Periodicals, and Package Services pieces forwarded to the latter office for delivery without added charge, if the customer files a written request with the postmaster at the former office.

* * * * *

2.2.6 Mail for Military Personnel

[Revise the first sentence of 2.2.6 to read as follows:]

All Priority Mail Express, First-Class Mail, USPS Ground Advantage—Retail, USPS Ground Advantage—Commercial, Periodicals, and Package Services mailpieces addressed to persons in the U.S. Armed Forces (including civilian employees) serving where U.S. mail service operates is forwarded at no added charge when the change of address is caused by official orders. * * *

* * * * *

2.3 Postage for Forwarding

* * * * *

[Revise the heading and text of 2.3.3 to read as follows:]

2.3.3 Priority Mail, First-Class Mail, USPS Ground Advantage—Retail, and USPS Ground Advantage—Commercial

Priority Mail, First-Class Mail (including postcards), USPS Ground Advantage—Retail, and USPS Ground Advantage—Commercial mailpieces are forwarded without charge when postage is fully prepaid by the sender.

* * * * *

2.3.5 USPS Marketing Mail and Parcel Select Lightweight

[Revise the second sentence of 2.3.5 to read as follows:]

* * * Shipper Paid Forwarding/Return (under 4.2.9) provides mailers of USPS Marketing Mail and Parcel Select Lightweight parcels an option of paying forwarding postage on those parcels, or return postage if undeliverable, at the applicable single-piece First-Class Mail, or USPS Ground Advantage—Retail price, instead of the addressee paying postage due charges. * * *

[Revise the heading of 2.3.6 to read as follows:]

2.3.6 Package Services, and Parcel Select

[Revise the first and third sentence of 2.3.6 to read as follows:]

Package Services, and Parcel Select pieces are subject to the collection of additional postage at the applicable price for forwarding; Parcel Select at the USPS Ground Advantage—Commercial price plus the additional service fee and Package Services at the single-piece price for the specific class of mail. * * * * * * The addressee may refuse any piece of Package Services or Parcel Select that has been forwarded. * * *

* * * * *

3.0 Hold For Pickup

* * * * *

3.2 Basic Information

* * * * *

3.2.2 Basic Eligibility

[Revise the introductory text of 3.2.2 to read as follows:]

Hold For Pickup service is available at retail Post Office locations for Priority Mail Express presented under 113.4.2 or 113.4.3, with or without COD service, Priority Mail, First-Class Mail, Library Mail, and Media Mail, with COD service, and for Priority Mail Express, Priority Mail, and USPS Ground Advantage—Retail, using USPS Click-N-Ship. It is also available with commercial mailings of Priority Mail Express presented under 213.4.2 or 213.4.3, Priority Mail, USPS Ground Advantage—Commercial, Parcel Select Lightweight, and Bound Printed Matter parcels, when:

* * * * *

3.2.3 Additional Eligibility Standards

Parcels must meet these additional physical requirements:

* * * * *

[Revise the text of item b to read as follows:]

b. Except as provided in 3.2.3c, Parcel Select Lightweight parcels must be greater than ¾ inch thick at the thickest point.

* * * * *

3.3 Preparation Definitions and Instructions

[Revise the introductory text of 3.3 to read as follows:]

When using Hold For Pickup service, except for Priority Mail Express Hold For Pickup with or without COD service, First-Class Mail, USPS Ground Advantage—Retail, Library Mail, and Media Mail, with COD service presented at retail Post Office locations, mailers or their agents must prepare mailpieces with the “Hold For Pickup” label as follows:

* * * * *

4.0 Address Correction Services

4.1 Address Correction Service

* * * * *

4.1.3 Invalid Endorsement

[Revise the last sentence “Exception:” to read as follows:]

* * * Exception: Undeliverable Media Mail, Library Mail, and Parcel Select pieces that bear invalid or conflicting ancillary service endorsements are treated as if endorsed “Forwarding Service Requested.”

* * * * *

4.1.5 Other Classes

[Revise the first sentence of 4.1.5 to read as follows:]

When possible, “on-piece” address correction is provided for Priority Mail Express, Priority Mail, First-Class Mail, USPS Ground Advantage—Retail, USPS Ground Advantage—Commercial, USPS Marketing Mail, Package Services, and Parcel Select pieces. * * *

* * * * *

5.0 Package Intercept

5.1 Description of Service

* * * * *

5.1.2 Eligibility

[Revise the first sentence of 5.1.2 to read as follows:]

Except under 5.1.3, Package Intercept service is available for Priority Mail Express, Priority Mail, First-Class Mail, USPS Ground Advantage—Retail, USPS Ground Advantage—Commercial, Parcel Select, Bound Printed Matter, Media Mail, or Library Mail mailpieces with a tracking barcode (excluding COD Hold For Pickup mailpieces), addressed to, from, or between domestic destinations (608.2.0) that do not require a customs declarations label, and measuring not more than 108 inches in length and girth combined. * * *

* * * * *

5.2 Postage and Fees

[Revise the second and third sentences in the introductory text of 5.2 to read as follows:]

* * * Priority Mail Express, Priority Mail, First-Class Mail, USPS Ground Advantage—Retail, and USPS Ground Advantage—Commercial pieces being redirected to the sender are not relabeled or subject to additional postage. Intercepted Parcel Select, Bound Printed Matter, Media Mail or Library Mail pieces that are redirected to the sender, and all intercepted mailpieces that are redirected to a new delivery address or a Post Office as Hold For Pickup (3.0), are relabeled and handled as a new Priority Mail piece. * * *

* * * * *

7.0 Pickup on Demand Service

* * * * *

7.2 Basic Standards

7.2.1 Availability

* * * Incidental amounts of other postage-affixed, full-price mail also may be collected when Pickup on Demand service is provided for:

* * * * *

[Revise items c and d to read as follows:]

c. USPS Ground Advantage—Retail.

d. USPS Ground Advantage—Commercial.

[Delete item e and renumber items f through n as items e through m.]

* * * * *

[Delete renumbered item g, USPS Retail Ground, and renumber items h through m as items g through l.]

* * * * *

11.0 USPS Tracking Plus Service

* * * * *

11.2 Scan Data Retention

USPS Tracking Plus service is available for scan data retention on mailpieces shipped via the following products:

* * * * *

[Revise the text of item d to read as follows:]

d. USPS Ground Advantage Service.

* * * * *

12.0 USPS Label Delivery Service

* * * * *

12.2 Eligibility

USPS Label Delivery Service is available for the following:

* * * * *

[Revise the text of items b and c to read as follows:]

b. USPS Ground Advantage—Retail.

c. USPS Ground Advantage—Commercial.

[Delete items d and e and renumber item f as item d.]

* * * * *

508 Recipient Services

1.0 Recipient Options

* * * * *

1.8 Commercial Mail Receiving Agencies

* * * * *

1.8.4 Addressee and CMRA Agreement

In delivery of the mail to the CMRA, the addressee and the CMRA agree that:

* * * * *

[Revise the sixth sentence of item b to read as follows:]

b. * * * At the end of the 6-month remail period the CMRA may return to the Post Office only First-Class Mail, USPS Ground Advantage—Retail, Priority Mail, Priority Mail Express, or accountable mail, received for the former addressee (customer). * * *

* * * * *

[Revise the third sentence of item c to read as follows:]

c. * * * Upon approval, the CMRA may return to the Post Office only First-Class Mail, USPS Ground Advantage—Retail, Priority Mail, Priority Mail Express, and accountable mail, received for the former customer. * * *

* * * * *

7.0 Premium Forwarding Services

* * * * *

7.2 Premium Forwarding Service Residential

* * * * *

7.2.6 Weekly Priority Mail Shipments

* * * Regardless of any mailer`s ancillary service endorsement on a mailpiece, and provided it fits within the shipment container, all mail is included in the weekly Priority Mail shipment, except as follows:

* * * * *

b. Mailpieces that do not fit in the shipment container, or that require a scan or signature at delivery, are scanned (when applicable) and then rerouted separately to the temporary address, subject to the following:

* * * * *

[Revise the text of items b1 through b3 to read as follows:]

1. Priority Mail Express, Priority Mail, USPS Ground Advantage—Retail, USPS Ground Advantage—Commercial pieces and Periodicals parcels are rerouted separately at no additional charge.

2. USPS Marketing Mail parcels and Parcel Select Lightweight pieces are rerouted separately and charged postage due at the appropriate USPS Ground Advantage—Retail price.

3. Bound Printed Matter, Media Mail, Library Mail, and Parcel Select pieces are rerouted separately and charged postage due at the appropriate single-piece price for the class or subclass of mail in which the piece was originally shipped.

* * * * *

d. Any mailpiece arriving postage due at the Post Office serving a customer`s primary address is not included in the weekly Priority Mail shipment and will be rerouted separately as follows:

* * * * *

[Revise the text of items d1 and d2 to read as follows:]

1. First-Class Mail, USPS Ground Advantage—Retail, USPS Ground Advantage—Commercial, and Priority Mail pieces are charged only for the original postage due amount.

2. Bound Printed Matter, Media Mail, Library Mail, and Parcel Select pieces are rerouted postage due at the appropriate single-piece price for the class, or subclass, of mail the mailpiece was originally shipped plus the postage due amount already indicated on the mailpiece.

* * * * *

7.3 Premium Forwarding Service Commercial

* * * * *

7.3.3 Conditions

Only the authorized recipient (or legal agent) of the business' (or organization's) mail may activate the request for PFS-Commercial service. PFS-Commercial service is subject to these conditions:

* * * * *

[Revise the text of item e to read as follows:]

e. Except under 7.3.3g, the following products may be included in a PFS-Commercial service container: Priority Mail, First-Class Mail, USPS Ground Advantage—Retail, and USPS Ground Advantage—Commercial pieces.

* * * * *

600 Basic Standards for All Mailing Services

* * * * *

602 Addressing

1.0 Elements of Addressing

* * * * *

1.3 Address Elements

All mail not bearing a simplified address must bear a delivery address that contains at least the following elements in this order from the top line:

* * * * *

[Revise the text of item e to read as follows:]

e. ZIP Codes are required on Priority Mail Express, commercial First-Class Mail, Periodicals, USPS Marketing Mail, Package Services and Parcel Select mailpieces, all mail sent to military addresses within the United States and to APO and FPO addresses, official mail, Business Reply Mail, and USPS Returns service packages.

* * * * *

1.5 Return Addresses

* * * * *

1.5.3 Required Use of Return Addresses

The sender's domestic return address must appear legibly on:

* * * * *

[Revise the text of item g to read as follows:]

g. USPS Ground Advantage—Retail and USPS Ground Advantage—Commercial.

* * * * *

3.0 Use of Alternative Addressing

3.1 General Information

* * * * *

3.1.2 Prohibited Use

Alternative addressing formats may not be used on:

* * * * *

[Revise the text of item b to read as follows:]

b. Mail with any ancillary service endorsement under 507.1.1 through 507.1.8, except as allowed for First-Class Mail, USPS Ground Advantage—Commercial parcels, or Priority Mail under 507.1.5.1b.

* * * * *

3.1.3 Treatment

[Revise the last sentence of 3.1.3 to read as follows:]

* * * Undeliverable mail with any alternative addressing format is disposed of as waste under 507.1.9.1, except for First-Class Mail, USPS Ground Advantage—Commercial parcels, and Priority Mail under 507.1.5.1b.

* * * * *

4.0 Detached Address Labels (DALs) and Detached Marketing Labels (DMLs)

* * * * *

4.5 Disposition of Excess or Undeliverable Material

* * * The mailer must choose one of the following options for each DAL or DML mailing and the items:

* * * * *

[Revise the last sentence of item d to read as follows:]

d. * * * Additional material must be sent prepaid to the delivery Post Office as First-Class Mail, USPS Ground Advantage—Retail, Priority Mail, or Priority Mail Express.

* * * * *

4.6 Postage

* * * * *

4.6.3 Returns

[Revise the first sentence of 4.6.3 to read as follows:]

Postage for excess or undeliverable DALs or DMLs that are properly endorsed or for items being returned is computed at the single-piece price (First-Class Mail, USPS Ground Advantage—Retail, Priority Mail, or Package Services) applicable to the combined weight of the DAL or DML, and the accompanying item, regardless of whether both are returned. * * *

* * * * *

604 Postage Payment Methods and Refunds

* * * * *

4.0 Postage Meters and PC Postage Products (“Postage Evidencing Systems”)

* * * * *

4.6 Mailings

4.6.1 Mailing Date Format

* * * The mailing date format used in the indicia is also subject to the following conditions.

a. Complete Date. Mailers must use a complete date for the following:

[Revise the text of item a1 to read as follows:]

1. All Priority Mail Express, Priority Mail, First-Class Mail, USPS Ground Advantage—Retail, and USPS Ground Advantage—Commercial pieces.

* * * * *

4.6.3 Deposit of Mail

Mailers must deposit or enter mailpieces with metered or PC Postage indicia according to the following conditions:

[Revise the first sentence of item a to read as follows:]

a. Mailers may deposit Priority Mail Express (including Flat Rate), Priority Mail (including Flat Rate), retail First-Class Mail, USPS Ground Advantage—Retail, retail Media Mail, and Library Mail, with a postage evidencing indicia at any Postal Service facility, preferably near the customers' local Post Office. * * *

* * * * *

5.0 Permit Imprint (Indicia)

5.1 General Standards

5.1.1 Definition

[Revise the second sentence of 5.1.1 to read as follows:]

* * * This payment method may be used for postage and extra service fees for Priority Mail Express (“eVS” only), Priority Mail, First-Class Mail, USPS Ground Advantage—Commercial, USPS Marketing Mail, Package Services, and Parcel Select mailpieces. * * *

5.1.2 Minimum Volume

Permit imprint mailings must contain at least 200 pieces or 50 pounds of mail, except:

* * * * *

[Revise the text of item f to read as follows:]

f. A mailing containing 50 or more pieces for Parcel Select destination entry under 253.4.1.2.

[Revise the second sentence of item g to read as follows:]

g. * * * Mailers may include any combination of the following products under this provision: Priority Mail Express (eVS only), Priority Mail, USPS Ground Advantage—Commercial parcels, nonpresorted Bound Printed Matter parcels, and single-piece Media Mail and Library Mail parcels. * * *

* * * * *

5.3 Indicia Design, Placement, and Content

* * * * *

[Revise the heading and introductory text of 5.3.6 to read as follows:]

5.3.6 Priority Mail Express, Priority Mail, First-Class Mail, and USPS Ground Advantage—Commercial Format

A permit imprint indicia on Priority Mail Express, Priority Mail, First-Class Mail, or USPS Ground Advantage—Commercial mailpieces must be formatted as follows:

[Revise the first sentence of item a to read as follows:]

a. Except under items 5.3.6b through 5.3.6d, the permit imprint indicia must show the basic price markings “Priority Mail Express,” “Priority Mail” (or “Priority”), “First-Class Mail,” or “USPS Ground Advantage” as applicable; “U.S. Postage Paid”; city and state; and permit number. * * *

* * * * *

[Revise the text of item c to read as follows:]

c. The “Priority Mail Express,” “Priority Mail” (or “Priority”), “First-Class Mail, or “USPS Ground Advantage” basic price marking may be omitted when using shipping address labels under 202.3.0.

* * * * *

8.0 Insufficient or Omitted Postage

8.1 Insufficient Postage

* * * * *

8.1.2 Undeliverable and Refused Mail

Mail with insufficient postage that is refused by the addressee or otherwise undeliverable is:

* * * * *

[Revise the text of item b to read as follows:]

b. Returned to the sender and delivered when the sender pays the total deficient postage and additional postage for forwarding or return if other than First-Class Mail or USPS Ground Advantage—Retail, and with a return address.

* * * * *

8.1.6 Registered Mail With Insufficient Postage

[Revise the first sentence of 8.1.6 to read as follows:]

If shortpaid Registered Mail is found in ordinary mail, with only the First-Class Mail or USPS Ground Advantage—Retail, price of postage paid, the piece is delivered to the addressee as ordinary First-Class Mail or USPS Ground Advantage—Retail. * * *

* * * * *

8.3 Mailable Matter Without Postage in or on Mail Receptacles

* * * * *

8.3.4 Partial Distribution

[Revise the text of 8.3.4 to read as follows:]

If there is a distribution of pieces to some, but not all, addresses on a route, pieces are returned to the delivery unit for use in computing the postage due. First-Class Mail or USPS Ground Advantage—Retail prices are applied to matter that would require First-Class Mail or USPS Ground Advantage—Retail postage if mailed. For other matter, if the piece weighs less than 16 ounces, the applicable single-piece First-Class Mailor USPS Ground Advantage—Retail, price based on the weight of the piece is applied, or an applicable Package Services price is applied, whichever is lower. If the piece weighs 16 ounces or more, the USPS Ground Advantage—Retail or applicable Package Services price is applied.

* * * * *

9.0 Exchanges and Refunds

* * * * *

9.2 Postage and Fee Refunds

* * * * *

9.2.3 Full Refund

A full refund (100%) may be made when:

* * * * *

[Revise the first sentence of item l to read as follows:]

l. If a First-Class Mail, USPS Ground Advantage—Retail, USPS Ground Advantage—Commercial, or Package Services mailpiece is torn or defaced during USPS handling so that the addressee or intended delivery point cannot be identified. * * *

* * * * *

608 Postal Information and Resources

* * * * *

7.0 Trademarks and Copyrights of the USPS

7.1 USPS Trademarks

* * * Depending on the trademark, the ™ or ® symbol may be used after these marks. Information on USPS trademarks can be found on USPS.com or by contacting General Counsel, USPS Headquarters (see 8.1 for address).

* * * * *

[Revise the list of trademarks by deleting “First-Class Package” and “First-Class Package Service”, and “USPS Retail Ground”.]

[Revise the list of trademarks by adding “USPS Ground Advantage” alphabetically.]

* * * * *

9.0 Postal Zones

* * * * *

9.2 Application

Zones are used to compute postage on zoned mail sent between 3-digit ZIP Code areas, including Military Post Offices (MPOs), as follows:

a. For the purposes of computing postal zone information, except for items 9.2b and 9.2c, the following table applies to MPOs listed in L002 Column A.

[Revise the footnote under item a to read as follows:]

* Chicago IL 606 serves Priority Mail and USPS Ground Advantage mail destinating to these ZIP Codes.

* * * * *

609 Filing Indemnity Claims for Loss or Damage

1.0 General Filing Instructions

* * * * *

1.4 When To File

File claims as follows:

* * * * *

b. Lost Articles: customers must file a claim within the time limits in the chart below.

MAIL TYPE OR SERVICE

* * * * *

[Revise the “APO/FPO/DPO Insured Mail and registered Mail” line item to read as follows:]

APO/FPO/DPO Insured Mail and registered Mail (Priority Mail, First-Class Mail, USPS Ground Advantage—Retail, SAM, or PAL))

* * * * *

700 Special Standards

703 Nonprofit USPS Marketing Mail and Other Unique Eligibility

1.0 Nonprofit USPS Marketing Mail

* * * * *

1.9 Mailing While Application Pending

* * * * *

1.9.2 Postage Record

[Revise the text of 1.9.2 to read as follows:]

While an application or confirmation of authorization is pending, postage must be paid at the applicable USPS Marketing Mail prices to qualify for a refund. The USPS records the difference between postage paid at regular USPS Marketing Mail prices and the postage that would have been paid at Nonprofit USPS Marketing Mail prices.

1.9.3 Refund

* * * No refund is made:

* * * * *

[Revise the text of item b to read as follows:]

b. If postage was paid at any eligible price other than USPS Marketing Mail.

* * * * *

2.0 Overseas Military and Diplomatic Post Office Mail

* * * * *

2.4 Military Ordinary Mail (MOM)

[Revise the first sentence in the introductory text of 2.4 to read as follows:]

Military ordinary mail (MOM) is DOD official mail sent at USPS Ground Advantage—Retail, USPS Ground Advantage—Commercial, Periodicals, USPS Marketing Mail, Parcel Select, or Package Services prices that requires faster service than sealift transportation to, from, and between military Post Offices. * * *

* * * * *

2.5 Parcel Airlift (PAL)

* * * * *

2.5.2 Availability

[Revise the text of 2.5.2 to read as follows:]

PAL is available for USPS Ground Advantage—Retail, USPS Ground Advantage—Commercial, Package Services, or Parcel Select pieces that do not exceed 30 pounds in weight or 60 inches in length and girth combined, when mailed at or addressed to any overseas military Post Office outside the 48 contiguous states.

* * * * *

3.0 Department of State Mail

* * * * *

3.2 Conditions for Authorized Mail

* * * * *

3.2.3 Weight and Size Limits

Maximum weight or size dimensions may not exceed any of the following:

* * * * *

[Revise the text of items e and f to read as follows:]

e. Combined length and girth: 108 inches for all mail classes other than USPS Ground Advantage—Retail.

f. Combined length and girth: 130 inches for USPS Ground Advantage—Retail.

* * * * *

9.0 Mixed Classes

* * * * *

9.12 Postage Payment for Combined Mailings of Media Mail and Bound Printed Matter

* * * * *

9.12.4 Rating of Unmarked Parcel

[Revise the introductory text of 9.12.4 to read as follows:]

A parcel containing Media Mail and Bound Printed Matter is charged postage at USPS Ground Advantage—Commercial prices if it:

* * * * *

705 Advanced Preparation and Special Postage Payment Systems

* * * * *

6.0 Combining Mailings of USPS Marketing Mail, Package Services, and Parcel Select Parcels

* * * * *

6.2 Combining Parcels—DNDC Entry

* * * * *

6.2.1 Eligible Prices

[Revise the first sentence of 6.2.1 to read as follows:]

Combined parcels may be eligible for USPS Marketing Mail, Parcel Select Lightweight, Parcel Select DNDC/ASF, single-piece and Presorted Media Mail, single-piece and Presorted Library Mail, Bound Printed Matter DNDC, and Nonpresorted and Presorted Bound Printed Matter prices. * * *

* * * * *

8.0 Preparing Pallets

* * * * *

8.6 Pallet Labels

* * * * *

8.6.5 Line 2 (Content Line)

Line 2 (content line) must meet these standards:

* * * * *

b. Codes. The codes shown below must be used as appropriate on Line 2 of sack, tray, and pallet labels.

Content Type | Code

* * * * *

[Revise the Line 2 “Content Type” and “Code” by deleting the First-Class Package Service—Commercial entry in its entirety.]

* * * * *

16.0 Plant Load Mailings

16.1 Basic Information

16.1.1 Purpose

* * * The USPS selects the appropriate mode of transportation and determines responsibility as shown below.

* * * * *

[Revise the text of footnote #3 to read as follows:]

3, Priority Mail Express and Priority Mail only.

* * * * *

18.0 Priority Mail Express Open and Distribute and Priority Mail Open and Distribute

* * * * *

18.3 Additional Standards for Priority Mail Express Open and Distribute

* * * * *

18.3.2 Extra Services

No extra services may be added to the Priority Mail Express segment of a Priority Mail Express Open and Distribute shipment, and the enclosed mail may receive only the following extra services:

[Revise the text of item a to read as follows:]

a. First-Class Mail pieces may be sent with Certified Mail service.

* * * * *

[Revise the text of item d to read as follows:]

d. Parcel Select and Package Services parcels mail may be sent with USPS Tracking or Signature Confirmation service.

18.4 Additional Standards for Priority Mail Open and Distribute

* * * * *

18.4.2 Extra Services

No extra services are available for Priority Mail Open and Distribute containers.

Only the following services may be added for mail in the enclosed container:

[Revise the text of items a through c to read as follows:]

a. First-Class Mail pieces may be sent with Certified Mail service.

b. USPS Marketing Mail parcels (except Customized MarketMail pieces) may be sent with electronic option USPS Tracking service.

c. Parcel Select and Package Services parcels may be sent with USPS Tracking or Signature Confirmation service.

* * * * *

Index

* * * * *

B

* * * * *

[Delete the “balloon price” entry in its entirety:]

* * * * *

C

* * * * *

Commercial Mail (Letters, Flats, Parcels)

* * * * *

[Delete the “First-Class Package Service—Commercial, 280” entry under “Commercial Mail”.]

* * * * *

[Add “USPS Ground Advantage—Commercial 280” alphabetically under “Commercial Mail.”]

* * * * *

Computing Postage

[Revise the “computing postage” entry by deleting the “USPS Retail Ground” line item.]

* * * * *

D

* * * * *

Deposit

* * * * *

commercial parcels

[Revise the “First-Class Package Service—Commercial, 286” line item under “deposit”, “commercial parcels”, by replacing it with USPS Ground Advantage—Commercial 286.]

* * * * *

[Revise the “deposit”, “retail mail” entry by deleting the “USPS Retail Ground” line item.]

* * * * *

E

* * * * *

Entry

* * * * *

commercial parcels

[Revise the “First-Class Package Service—Commercial, 286” line item under “Entry”, “commercial parcels”, by replacing it with USPS Ground Advantage—Commercial 286.]

* * * * *

F

* * * * *

[Delete the “First-Class Package Service—Commercial parcels” line item and in its entirety.]

* * * * *

H

* * * * *

Handwriting

* * * * *

commercial parcels

[Revise the “First-Class Package Service—Commercial, 283” line item under “handwriting”, “commercial parcels”, by replacing it with USPS Ground Advantage—Commercial 283.]

* * * * *

M

* * * * *

Mail Preparation

* * * * *

commercial parcels

[Revise the “First-Class Package Service—Commercial, 285” line item under “mail Preparation”, “commercial parcels”, by replacing it with USPS Ground Advantage—Commercial 285.]

[Revise the “mail preparation”, “commercial parcels” entry by deleting the “USPS Retail Ground” line item.]

* * * * *

Mixed Classes, 703.9.0

[Revise the “mixed classes” entry by deleting the “USPS Retail Ground” line item.]

* * * * *

N

* * * * *

Network Distribution Center (NDC) Acceptance

retail mail

[Revise the “Network Distribution Center (NDC) acceptance” entry by deleting the “USPS Retail Ground” line item.]

* * * * *

O

* * * * *

Oversized Price Eligibility

[Revise the “oversized price eligibility” entry by replacing the “USPS Retail Ground” line item with USPS Ground Advantage.]

* * * * *

P

* * * * *

Parcel Select

[Revise the “Parcel Select” entry by deleting the “cubic 253.2.1” line item.]

* * * * *

Plant-Verified Drop Shipment (PVDS), 705.17.0

[Revise the “plant-verified drop shipment (PVDS)” entry by deleting the “USPS Retail Ground” line item.]

* * * * *

Postage Payment

* * * * *

commercial parcels

[Revise the “First-Class Package Service—Commercial, 284” line item under “postage payment”, “commercial parcels”, by replacing it with USPS Ground Advantage—Commercial 284.]

* * * * *

retail mail

[Revise the “postage payment”, “retail mail” entry by deleting the “USPS Retail Ground” line item.]

* * * * *

Postage Statement

* * * * *

commercial parcels

[Revise the “First-Class Package Service—Commercial, 284.3.0” line item under “postage statement”, “commercial parcels”, by replacing it with USPS Ground Advantage—Commercial 284.3.0.]

* * * * *

Postal Inspection

* * * * *

commercial parcels

[Revise the “First-Class Package Service—Commercial, 284.3.2.0” line item under “postage statement”, “commercial parcels”, by replacing it with USPS Ground Advantage—Commercial 284.3.2.0.]

* * * * *

retail mail

[Revise the “postal inspection”, “retail mail” entry by deleting the “USPS Retail Ground” line item.]

* * * * *

U

* * * * *

[Add a “USPS Ground Advantage—Commercial parcels” line item to read as follows:]

USPS Ground Advantage—Commercial Parcels

computing postage, 283.1.1

content standards, 283.2.0

deposit of, 286.1.0

documentation, 284.3.0

eligibility standards, 283

incidental enclosure with another class of mail, 703.9.5

mail preparation, 285

markings required on each mailpiece general, 202.1.0

postage payment methods, 284

postage statements, 284.2.0

price eligibility, 283.4.0

size, 201.8.3

surcharge, 283.1.3

undeliverable mail, 507.1.5.1

weight, 201.8.3.1

* * * * *

[Delete the “USPS Retail Ground” entry in its entirety.]

* * * * *

V

* * * * *

Volume Requirements

* * * * *

commercial parcels

[Revise the “First-Class Package Service—Commercial, 284.4.0” line item under “volume requirements”, “commercial parcels”, by replacing it with USPS Ground Advantage—Commercial 284.4.0.]

* * * * *

Z

* * * * *

ZIP Code Accuracy

* * * * *

commercial parcels

[Revise the “First-Class Package Service—Commercial, 283.3.0” line item under “volume requirements”, “commercial parcels”, by replacing it with USPS Ground Advantage—Commercial 283.3.0.]

* * * * *

Notice 123 (Price List)

[Revise competitive prices as applicable.]

* * * * *

Tram T. Pham,
Attorney, Ethics and Legal Compliance.

[FR Doc. 2023-10353 Filed 5-19-23; 8:45 am]

BILLING CODE P